DEPARTMENT OF COMMERCE

National Oceanic and Atmospheric Administration

50 CFR Parts 600 and 679

[Docket No. 231005-0237]

RIN 0648-BM42

Fisheries of the Exclusive Economic Zone Off Alaska; Cook Inlet Salmon; Amendment 16

AGENCY: National Marine Fisheries Service (NMFS), National Oceanic and Atmospheric Administration (NOAA), Commerce.

ACTION: Proposed rule; notice of availability of a fishery management plan amendment; request for comments.

SUMMARY: NMFS proposes Amendment 16 to the Fishery Management Plan for the Salmon Fisheries in the Exclusive Economic Zone (EEZ) Off Alaska (Salmon FMP) and associated implementing regulations. If approved, Amendment 16 and this proposed rule would establish Federal fishery management for all salmon fishing that occurs in the Cook Inlet EEZ, which includes commercial drift gillnet and recreational salmon fishery sectors. This action is necessary to comply with rulings from the U.S. Court of Appeals for the Ninth Circuit and the U.S. District Court for the District of Alaska, and to ensure the Salmon FMP is consistent with the Magnuson-Stevens Fishery Conservation and Management Act (Magnuson-Stevens Act). This action is intended to promote the goals and objectives of the Magnuson-Stevens Act, the Salmon FMP, and other applicable laws.

DATES: Submit comments on or before December 18, 2023.

ADDRESSES: You may submit comments, identified by NOAA-NMFS-2023-0065, by any of the following methods:

• Electronic Submission: Submit all electronic public comments via the Federal e-Rulemaking Portal. Go to https://www.regulations.gov and enter NOAA-NMFS-2023-0065 in the Search box. Click on the “Comment” icon, complete the required fields, and enter or attach your comments.

• Mail: Submit written comments to Gretchen Harrington, Assistant Regional Administrator, Sustainable Fisheries Division, Alaska Region NMFS. Mail comments to P.O. Box 21668, Juneau, AK 99802-1668.

Instructions: Comments sent by any other method, to any other address or individual, or received after the end of the comment period may not be considered by NMFS. All comments received are a part of the public record and will generally be posted for public viewing on https://www.regulations.gov without change. All personal identifying information (e.g., name, address), confidential business information, or otherwise sensitive information submitted voluntarily by the sender will be publicly accessible. NMFS will accept anonymous comments (enter “N/A” in the required fields if you wish to remain anonymous).

Electronic copies of proposed Amendment 16; the Environmental Assessment, the Regulatory Impact Review, and the Social Impact Analysis (contained in a single document and collectively referred to as the “Analysis”); and the draft Finding of No Significant Impact prepared for this action may be obtained from http://www.regulations.gov or from the NMFS Alaska Region website at https://www.fisheries.noaa.gov/region/alaska.

Written comments regarding the burden-hour estimates or other aspects of the collection-of-information requirements contained in this proposed rule may be submitted to NMFS at the above address and to https://www.reginfo.gov/public/do/PRAMain. Find this particular information collection by selecting “Currently under 30-day Review—Open for Public Comments” or by using the search function.

FOR FURTHER INFORMATION CONTACT: Doug Duncan, 907-586-7228 or doug.duncan@noaa.gov.

SUPPLEMENTARY INFORMATION:

Authority for Action

NMFS manages U.S. salmon fisheries off of Alaska under the Salmon FMP. The North Pacific Fishery Management Council (Council) prepared, and the Secretary of Commerce (Secretary) approved, the Salmon FMP under the authority of the Magnuson-Stevens Act, 16 U.S.C. 1801 et seq. Regulations implementing the Salmon FMP are located at 50 CFR part 679. General regulations governing U.S. fisheries also appear at 50 CFR part 600. NMFS is authorized to prepare an FMP amendment necessary for the conservation and management of a fishery managed under the FMP if the Council fails to develop and submit such an amendment after a reasonable period of time (section 304(c)(1)(A); 16 U.S.C 1854(c)(1)(A)). Because the Council failed to take action to recommend a required FMP amendment in time for NMFS to implement it by a court-ordered deadline, NMFS developed a Secretarial FMP amendment and this proposed rule.

NMFS has determined that it is necessary and appropriate, under section 304(c)(1)(A) of the Magnuson-Stevens Act, to develop a Secretarial amendment—Amendment 16 to the Salmon FMP—and proposed regulations in order to comply with rulings from the U.S. Court of Appeals for the Ninth Circuit and the U.S. District Court for the District of Alaska, and to ensure the Salmon FMP is consistent with the Magnuson-Stevens Act. Amendment 16 would incorporate the Cook Inlet EEZ Area (defined as the EEZ waters of Cook Inlet north of a line at 59°46.15′ N) into the Salmon FMP's Fishery Management Unit. This proposed rule would implement Amendment 16. Amendment 16 adds another management area to the Salmon FMP in addition to the existing West Area and East Area. This action would not modify management of the West Area and East Area.

NMFS is soliciting public comments on Amendment 16 and this proposed rule. All relevant written comments received by the end of the comment period for this action (See DATES), whether specifically directed to the proposed FMP amendment or the implementing regulations, will be considered by NMFS in deciding whether to adopt and implement Amendment 16.

Amendment 16 Overview

This action, if approved, would incorporate the Cook Inlet EEZ into the Salmon FMP as the Cook Inlet EEZ Area, thereby bringing the salmon fishery that occurs within it under Federal management by the Council and NMFS.

Two different sectors participate in the Cook Inlet EEZ Area salmon fishery: the commercial drift gillnet sector and the recreational sector. The commercial drift gillnet fleet harvests over 99.99 percent of salmon in the Cook Inlet EEZ Area. Currently, both drift gillnet and recreational salmon fishing occur in the State and EEZ waters of Cook Inlet under State management without regard to the boundary between State and Federal waters. Under this action, the Cook Inlet EEZ salmon fishery will be managed by NMFS and the Council separately from adjacent State water salmon fisheries.

Amendment 16 would revise the Salmon FMP, beginning with an updated history of the FMP and introduction in Chapter 1, as well as a revised description of the fishery management unit in Chapter 2 that would include the Cook Inlet EEZ Area as a separate and distinctly managed area. The management and policy objectives in Chapter 2 would also be revised to include consideration of the Cook Inlet EEZ Area. Current chapters describing management of the Salmon FMP's East Area and West Area would be consolidated into Chapter 3. No substantive changes would be made to Salmon FMP content related to the East Area and West Area.

A new Chapter 4 would include a comprehensive description of Federal management for the Cook Inlet EEZ Area. This chapter would describe management measures and the roles and responsibilities of NMFS and the Council in managing the Cook Inlet EEZ Area salmon fishery. Centrally, Chapter 4 would include descriptions of all conservation and management measures, including maximum sustainable yield (MSY), optimum yield (OY), status determination criteria, and an outline of the harvest specifications process. Chapter 4 would also describe authorized fishery management measures and authorities including required Federal permits; fishing gear restrictions; fishing time and area restrictions; NMFS inseason management provisions; and monitoring, recordkeeping, and reporting requirements, as well as information about ongoing Council review of the FMP.

Chapter 5 would contain all content related to domestic annual harvesting and processing capacity, which indicates that all salmon fisheries off Alaska can be fully utilized by U.S. harvesters and processors, which is unchanged by this action.

Chapter 6 contains information on Essential Fish Habitat and Habitat Areas of Particular Concern and would not be modified by this action. Amendment 16 would remove the outdated Fishery Impact Statement in the Salmon FMP. The Analysis prepared for Amendment 16 contains the Fishery Impact Statement for the Cook Inlet EEZ salmon fishery and this action.

History of the Salmon FMP

The Council's Salmon FMP manages the Pacific salmon fisheries in the EEZ from 3 nautical miles (nmi) to 200 nmi off Alaska. The Council developed the Salmon FMP under the Magnuson-Stevens Act, and it first became effective in 1979. The Salmon FMP was comprehensively revised by Amendment 3 in 1990 (55 FR 47773, November 15, 1990) and again by Amendment 12 in 2012 (77 FR 75570, December 21, 2012).

Since 1979, the Council has divided the Salmon FMP's coverage into the West Area and the East Area, with the boundary between the two areas at Cape Suckling, at 143°53.6′ W longitude. Prior to Amendment 12, the Salmon FMP authorized commercial fishing in the East Area, recreational salmon fishing in both areas, and prohibited commercial salmon fishing in the West Area. However, the commercial salmon fishing prohibition in the West Area was not applied to three adjacent areas of the EEZ where commercial salmon fishing with nets was originally authorized by the International Convention for the High Seas Fisheries of the North Pacific Ocean, as implemented by the North Pacific Fisheries Act of 1954 (1954 Act). The Salmon FMP referred to the three areas of the EEZ where commercial net fishing for salmon occurs as the “Cook Inlet EEZ,” the “Alaska Peninsula EEZ,” and the “Prince William Sound EEZ,” and collectively as the “traditional net fishing areas.” Under the authority of the 1954 Act, NMFS issued regulations that set the outside fishing boundaries for the traditional net fishing areas as those set forth under State of Alaska (State) regulations and stated that any fishing in these areas was to be conducted pursuant to State regulations.

In 1990, the Council amended the Salmon FMP, continuing to prohibit commercial salmon fishing with nets in the EEZ, with the exception of the traditional net fishing areas managed by the State. The next major modification to the Salmon FMP occurred when the Council recommended Amendment 12 in December 2011. In developing Amendment 12, the Council recognized that the law governing the three traditional net fishing areas (the 1954 Act) had changed and the Salmon FMP was vague with respect to Federal management of the traditional net fishing areas. After considering various alternatives, the Council recommended and NMFS approved Amendment 12, which removed the three traditional net fishing areas from the Salmon FMP's Fishery Management Unit.

By removing the traditional net fishing areas from the Salmon FMP's West Area, the Council intended for the State to continue managing these areas, which the State has done since before the inception of the Salmon FMP in 1979. In developing Amendment 12, the Council considered recommending Federal management of salmon fishing in the three traditional net fishing areas, but determined that (1) the State was managing the salmon fisheries within these three areas consistent with the policies and standards of the Magnuson-Stevens Act, (2) the Council and NMFS did not have the expertise or infrastructure (such as personnel, monitoring and reporting systems, and processes for salmon stock assessments) to manage Alaska salmon fisheries, and (3) Federal management of these areas would not serve a useful purpose or provide additional benefits and protections to the salmon fisheries within these areas. The Council recognized that salmon are best managed as a unit throughout their range and determined that dividing management into two separate salmon fishery jurisdictions—State and Federal—would not be optimal. The Council also recognized the State's expertise and well-developed management infrastructure from managing the salmon fisheries in Alaska since Statehood. The Council determined that Amendment 12 was consistent with the management approach established in the original Salmon FMP in 1979.

The final rule implementing Amendment 12 was published in the Federal Register on December 21, 2012 (77 FR 75570). On January 18, 2013, Cook Inlet commercial salmon fishermen and seafood processors filed a lawsuit challenging Amendment 12 and its implementing regulations. In United Cook Inlet Drift Ass'n v. NMFS, 2014 WL 10988279 (D. Alaska 2014), the district court held that Amendment 12's removal of the Cook Inlet EEZ from the Salmon FMP was lawful. On appeal, the Ninth Circuit held that section 302(h)(1) of the Magnuson-Stevens Act (16 U.S.C. 1852(h)(1)) clearly and unambiguously requires a Council to prepare and submit FMPs for each fishery under its authority that requires conservation and management. United Cook Inlet Drift Ass'n v. NMFS, 837 F.3d 1055, 1065 (9th Cir. 2016). Because NMFS determined that the Cook Inlet EEZ salmon fishery requires conservation and management by some entity, the Ninth Circuit ruled that it must be included in the Salmon FMP.

Developing Management Alternatives for Amendment 14

In response to the Ninth Circuit's ruling, the Council began work on Amendment 14. Because the history of Amendment 14 is integral to the need for and development of this action, a brief history is provided here. The Council worked from 2017 to 2020 developing and evaluating management alternatives for Amendment 14. The Council broadly identified two management approaches to amend the FMP to include the Cook Inlet EEZ: one that would delegate authority over specific management measures to the State with review and oversight by the Council, and one that would retain all management within the Federal process.

The Council also formed the Cook Inlet Salmon Committee (Committee), consisting of Cook Inlet salmon fishery stakeholders tasked with developing recommendations for management of the fishery. The Committee proposed delegating management to the State, but with expanded Federal oversight and a management scope that included State marine and fresh waters in addition to the EEZ waters of Cook Inlet. This recommendation was not carried forward for further consideration because NMFS does not have jurisdiction over State waters.

Generally, information in the analysis prepared for Amendment 14 indicated that Federal management would be unlikely to appreciably change salmon conservation metrics and thresholds established in Cook Inlet, but would increase costs, complexity, and management uncertainty without corresponding benefits. While the Council identified some flexibility with the specific management measures that could be implemented under either Federal management approach, neither the Council, NMFS, the State, nor stakeholders identified a fundamentally different management approach that could satisfy the Ninth Circuit ruling, the Magnuson-Stevens Act, and other applicable law.

After the State announced it would not accept delegated management authority for Cook Inlet, the Council ultimately recommended expanding the existing adjacent West Area to include the Cook Inlet EEZ, thereby incorporating the Cook Inlet EEZ into the Salmon FMP and closing the area to commercial salmon fishing. In short, the rationale was that closure was a precautionary management approach, consistent with management throughout the West Area, avoided significantly increased costs and uncertainty, and drift gillnet fishing could continue entirely within State waters. On November 3, 2021, NMFS published a final rule to implement Amendment 14 to the Salmon FMP (86 FR 60568, November 3, 2021).

Amendment 14 was challenged by Cook Inlet commercial salmon fishermen before the first fishing season. On June 21, 2022, the U.S. District Court for the District of Alaska vacated the implementing regulations for Amendment 14. United Cook Inlet Drift Ass'n v. NMFS, 2022 WL 2222879 (D. Alaska 2022). The Court found that the final rule was arbitrary and capricious, in part because NMFS failed to include management measures for the Cook Inlet EEZ recreational fishery in the FMP and because the Court determined the rule still implicitly deferred too much management authority to the State of Alaska without formally delegating such authority. Id. at *8-*9, *13-*15. The Court later ordered NMFS to promulgate a new FMP amendment to federally manage the Cook Inlet EEZ in accordance with the Magnuson-Stevens Act by May 1, 2024. The 2022 and 2023 Cook Inlet EEZ fishing seasons were managed by the State under pre-Amendment 14 conditions.

Now, NMFS proposes Amendment 16 and implementing regulations that would federally manage all Cook Inlet EEZ salmon fishing, consistent with the Magnuson-Stevens Act and the decisions of the Ninth Circuit and the District Court.

Developing Management Alternatives for Amendment 16

In response to the District Court's ruling, at its first meeting since the ruling (October 2022), the Council initiated an analysis for a new amendment to the Salmon FMP for initial review at its December 2022 meeting. The Amendment 14 analysis was used as a basis for developing Amendment 16 because it contained the reasonable range of potential management alternatives. NMFS informed the Council that it would need to make a recommendation at its April 2023 meeting to allow NMFS sufficient time to implement a new FMP amendment by the Court's deadline.

The Council reviewed the updated analysis at its December 2022 meeting, and after considering public comment tasked staff with analyzing four alternatives for final action: Alternative 1 (status quo), Alternative 2 (delegated Federal management), Alternative 3 (Federal management), and Alternative 4 (Federal closure). NMFS, the Council, and the public did not identify any fundamentally new alternatives. The Council requested staff analyze Alternative 2 and Alternative 3, include management measures for the recreational salmon fishery sector, and identify any possible variations in management approaches under either alternative. Alternative 1 and Alternative 4 were not viable options because of the courts' rulings, but were retained for analytical comparison.

Prior to the scheduled Council final action in April 2023, staff worked to improve Alternative 2 and Alternative 3. For Alternative 2, this included work to identify any added flexibilities under delegated management that might make delegation more appealing to the State while still complying with all Magnuson-Stevens Act requirements. Previously, the State has expressed concerns over (1) the resources needed to manage fishing in the EEZ through the Council process (in addition to its Board of Fisheries process), and (2) Council review of State management targets that would be used to manage both the EEZ and State water fisheries that are not subject to the Magnuson-Stevens Act. A fundamental constraint for delegated management under the Magnuson-Stevens Act is that neither the Council nor the Secretary can force the State to accept delegated management authority. Though some additional flexibilities were identified in the analysis, ultimately the State still declined to accept a delegation of management authority for the fishery.

Alternative 3 was further refined to address concerns expressed by fishery stakeholders and the Council. The proposed management policy and objectives were updated to more closely reflect and balance the Council's approach to salmon management with the proposed Federal responsibilities under Alternative 3. Options for NMFS to prepare the fishery stock assessments and a multi-year harvest specification process were also evaluated in an effort to increase efficiency. Generally, the description of management measures was refined and improved to describe the most practicable management regime. This included the addition of a potential season closure date, expected Federal regulatory prohibitions, and proposed legal drift gillnet gear configurations.

During the Council process, Cook Inlet drift gillnet fishery stakeholders generally expressed their perspective that this action, and all Magnuson-Stevens Act requirements, must be applied to both the Federal and State waters of Cook Inlet. However, under the Magnuson-Stevens Act, there is only one narrow authority for NMFS to extend Federal jurisdiction into State waters. In order for a Federal FMP to govern fisheries occurring within State marine waters, both of the following conditions must be met under Magnuson-Stevens Act section 306(b) (16 U.S.C. 1856(b)): (1) the fishery must occur predominantly within the EEZ, and (2) State management must substantially and adversely affect the carrying out of the FMP. As approximately 75 percent of the total annual upper Cook Inlet salmon harvest occurs within State waters, there is no authority for NMFS to assert management authority over the State water salmon fisheries in Cook Inlet. In addition, even when the two conditions above are met, under no circumstance does NMFS or the Council have authority to manage fishing within State internal waters where salmon spawning takes place (i.e., landward of the coastline).

Further, NMFS interprets Magnuson-Stevens Act language conferring “exclusive fishery management authority beyond the exclusive economic zone over such anadromous species and Continental Shelf fishery resources” as granting NMFS jurisdiction to manage salmon further than 200 nmi from shore—i.e., beyond sovereign jurisdictional limits—rather than within 3nmi. The Magnuson-Stevens Act acknowledges that marine waters from the Alaskan coastline out to 3 nmi are under State jurisdiction (16 U.S.C. 1801(b)(1)) and provides for Federal management of those waters only when specific requirements described above are met, as they are not here. Therefore, Federal authority to manage Cook Inlet salmon fishing is limited to EEZ waters. Of course, to manage the EEZ NMFS must and would, pursuant to Amendment 16, consider the condition of salmon stocks as a whole and the impacts that State salmon fisheries have on management of the EEZ. But NMFS lacks statutory authority to establish harvest limits or implement a harvest strategy that applies in State waters.

As most public commenters during the Council process emphasized, the jurisdictional issues in Cook Inlet are challenging because salmon are harvested in both State and Federal waters but originate from the same stocks that spawn entirely in State freshwaters. This makes separately managed State and Federal fisheries complex. Stakeholders and the Council noted with near unanimity that the State has significantly better tools, data, flexibility, and experience for inseason management of Cook Inlet salmon fisheries. NMFS agrees with this assessment. NMFS would have preferred delegated management under Alternative 2 so that State expertise and flexibility could be directly utilized for management of the Cook Inlet EEZ Area. The State has more than 60 years of experience managing salmon fisheries in Cook Inlet while NMFS has no prior experience managing these fisheries. However, because, pursuant to court order, the Cook Inlet EEZ must be managed under the FMP and the State declined to accept delegated management, the only remaining option was to create a new fishery in the Cook Inlet EEZ managed by the Council and NMFS.

Another concern of stakeholders was transitioning from a management system that could most quickly open and close an EEZ fishery based on real-time escapement data to one with established annual catch limits (ACLs). Federal salmon management challenges are compounded by various constraints on NMFS's management flexibility: Magnuson-Stevens Act requirements that FMPs include a mechanism to establish ACLs; and notice and publication requirements for in-season actions under the Administrative Procedure Act that NMFS must abide by for all fishery management, including management of the Cook Inlet EEZ. These requirements make it infeasible for NMFS to implement an escapement-based salmon management approach in the Cook Inlet EEZ that is identical to that currently used by the State and familiar to stakeholders.

Another consistent concern voiced by stakeholders and the Council was about the impacts and difficulty of coordinating management of salmon stocks across separate State and Federal jurisdictions. Management measures under Alternative 3 were designed, within the limits of Federal authority, to address the impacts of managing salmon fisheries across jurisdictions. Because Federal managers have less administrative flexibility and less salmon management expertise than State managers, NMFS expects initial management of the Cook Inlet EEZ to be conservative to account for the significant uncertainty and minimize the risk of overfishing. For example, all existing data on harvests in the EEZ are estimates because management and catch reporting have never differentiated between State and EEZ waters. After the implementation of Federal management, NMFS can begin collecting the data needed to address some of these uncertainties. Eventually, with better data NMFS may be able to more accurately project harvestable surpluses of salmon and liberalize future Cook Inlet EEZ Area harvests on stocks that can support additional harvest. However, NMFS does not see a way to immediately increase salmon harvests with less information, less flexibility, less expertise, more management uncertainty, and more scientific uncertainty at a time when salmon runs are experiencing significant volatility across most of Alaska and the Pacific coast. Further, no data can entirely eliminate the uncertainty associated with setting preseason catch limits—as required under the Magnuson-Stevens Act—based on run forecasts that are never perfectly accurate. Over time, management measures may be refined as Federal managers gain experience and better data is available to assess harvest and stock composition within the Cook Inlet EEZ Area.

Another central contention of drift gillnet fishery stakeholders is that NMFS must manage to achieve MSY under the Magnuson-Stevens Act, and that appropriate management targets for Cook Inlet salmon stocks are not being used. Under any management alternative, NMFS's mandate is to achieve OY and prevent overfishing, not to achieve MSY. National Standard 1 states that conservation and management measures shall prevent overfishing while achieving, on a continuing basis, the OY from each fishery. Magnuson-Stevens Act section 3(33) defines “optimum,” with respect to the yield from a fishery, as the amount of fish that will provide the greatest overall benefit to the Nation, particularly with respect to food production and recreational opportunities and taking into account the protection of marine ecosystems; that is prescribed on the basis of the MSY from the fishery, as reduced by any relevant economic, social, or ecological factor; and, in the case of an overfished fishery, that provides for rebuilding to a level consistent with producing the MSY in such fishery (16 U.S.C. 1802(33)). Simply put, MSY must be considered in establishing OY, but the actual management targets established for the fishery can vary considerably depending on the balancing of factors identified above. The catch limits established for federally-managed crab, groundfish, and scallop fisheries off Alaska are regularly set significantly below their respective MSY values in consideration of these factors.

Drift gillnet fishery stakeholders have also opined that because overfishing has been so rarely observed, there are no conservation concerns in Cook Inlet and therefore harvests may be increased. NMFS agrees that the State has successfully avoided overfishing over the long term. However, this is a result of proactive management that continually assesses conditions of the various stocks in Cook Inlet and implements restrictions in real time to avoid overfishing, rather than an indication that all salmon stocks are healthy and can support significant additional harvest in all instances. Additional discussion of the specific factors that may constrain harvest on healthy salmon stocks in Cook Inlet is provided below in Cook Inlet EEZ Commercial Salmon Fishing Management Measures.

When evaluating management alternatives, the Council also noted that Alternative 3 would have increased costs, increased burdens on all participants, and overall decreased efficiencies relative to Alternatives 1 or 2. However, the Council did not identify any alternative solutions consistent with the applicable court decisions and did not convince the State to accept delegated management under Alternative 2. The Council failed to take necessary action to recommend management measures for the Cook Inlet EEZ salmon fishery in April 2023 and thus, to comply with the governing court order, NMFS began developing Amendment 16 and this proposed rule.

When the Secretary develops an FMP Amendment, according to section 304(c)(2)(A) of the Magnuson-Stevens Act, the Secretary must “conduct public hearings, at appropriate times and locations in the geographical areas concerned, so as to allow interested parties an opportunity to be heard in the preparation and amendment of the plan and any regulations implementing the plan.” In addition to the opportunities for public input provided at two Council meetings in Anchorage, AK, NMFS published a notice of a public hearing (88 FR 25382) on April 26, 2023 and held a public hearing on May 18, 2023. This public hearing was held virtually to maximize accessibility, and written public comments were accepted through May 25, 2023. Approximately 40 people attended the public hearing and NMFS received 12 written comments. Nearly all commenters were drift gillnet fishery stakeholders.

In general, drift gillnet fishery stakeholders that participated in the hearing expressed concerns about management that would establish preseason harvest limits rather than open and close the fishery throughout the fishing season based on real-time escapement data. In addition, they objected to any commercial fishery season closure date earlier than August or September, and any management that did not increase the number of weekly fishing periods over status quo, citing concerns about the economic viability of the drift gillnet fishery under conservative management, including existing State management. Participants emphasized that certain sockeye, chum, and pink salmon stocks have not been fully utilized in some years under the State management regime. NMFS took these comments into consideration during the development of Amendment 16 and this proposed rule. A more detailed description of comments received can be found in Section 1.5 of the Analysis.

NMFS also received multiple requests from tribal entities in the region for engagement meetings and consultations on the issue. NMFS held 3 tribal consultations and 3 tribal engagement sessions from February 2023 to June 2023 to provide information, receive input, and fulfill NMFS's responsibilities to conduct government to government consultations with tribes. Tribal members throughout Cook Inlet participate in all Cook Inlet salmon fisheries, including the drift gillnet, as well as other commercial, recreational, subsistence, tribal, ceremonial, educational, and personal use salmon fisheries. Participants were universally concerned about the health of Cook Inlet salmon stocks. There were discussions about the complexity of salmon management throughout Cook Inlet, including information noting that Kenai and Kasilof sockeye salmon stocks are healthy and can support additional harvest while others are severely depressed or otherwise require careful consideration. Many tribal groups expressed a particular concern about the health of Cook Inlet Chinook salmon stocks.

Throughout all of the tribal meetings, there was support for Alternatives 3 and 4, but not for Alternative 2. There was general concern about State management. Several tribal groups reported the challenges they had getting tribal priorities addressed by the State, with one group specifically citing the difficulty of getting the Ninilchik subsistence salmon fishery recognized and implemented. There was broad support for the establishment of new Federal tribal and subsistence fisheries in the Cook Inlet EEZ Area. Some also expressed the sentiment that under the existing State management regime, and likely Alternative 2, the Federal trust responsibility would be impeded by the State's involvement. Many felt that this would improve under either Alternative 3 or 4 with direct Federal management. There were divergent perspectives on possible management measures for the commercial fisheries, with some groups advocating for additional restrictions that would provide more salmon to subsistence harvesters and others requesting that current EEZ drift gillnet commercial salmon harvests be maintained or expanded. Finally, there was a general acknowledgement of the limitations of the Magnuson-Stevens Act in the context of salmon management, but tribes expressed the view that this did not absolve the Federal responsibility to work to improve the health of Cook Inlet salmon stocks.

Several tribes indicated that the window of time available was too short and did not allow sufficient time for meaningful tribal consultations, and that this action should be delayed to allow for it. NMFS noted it was unable to delay action due to the Court deadline. A more detailed summary of feedback received at meetings with tribal groups is provided in Section 1.6 of the Analysis.

Action Summary and Rationale

This action would amend the Salmon FMP and revise Federal regulations. Amendment 16 would add the Cook Inlet EEZ Area to the Salmon FMP's fishery management unit. The FMP would also be amended to include all status determination criteria required by the Magnuson-Stevens Act for determining whether a stock is overfished (in terms of biomass) or subject to overfishing (in terms of the rate of removal). Amendment 16 would describe annual management processes, including the framework approach for establishing harvest specifications. The FMP would describe management measures related to fishing time, area, gear, and permits for the Cook Inlet EEZ Area.

This proposed rule would modify Federal regulations to implement Amendment 16 by revising the definition of Salmon Management Area at 50 CFR 679.2 to redefine the Cook Inlet Area as the Cook Inlet EEZ Area and incorporate it into the Federal Salmon Management Area. This proposed rule would also create Figure 22 to 50 CFR part 679 to depict the location of the Cook Inlet EEZ Area. Regulations at 50 CFR 600.725 would be modified to authorize the use of drift gillnet gear for the Cook Inlet EEZ Area commercial salmon fishery. Existing regulations related to salmon fisheries under the Salmon FMP throughout 50 CFR 679 would be moved to Subpart J—Salmon Fishery Management beginning at 50 CFR 679.110. Management measures necessary for the Cook Inlet EEZ Area would be added to Subpart J. The following sections provide a summary of management measures that would be implemented by this proposed rule.

Maximum Sustainable Yield and Optimum Yield

Amendment 16 would amend the Salmon FMP to include definitions of MSY and OY. All FMPs must be consistent with the 10 National Standards for fishery conservation and management under the Magnuson-Stevens Act. National Standard 1 requires that fishery management measures prevent overfishing while achieving OY on a continuing basis. OY is the amount of fish that will provide the greatest overall benefit to the Nation in terms of food production and recreational opportunities, while taking into account the protection of marine ecosystems. Establishing the biological reference points used to prevent overfishing and achieve OY is a key component of Federal management. One of the required foundational reference points is MSY, which is the largest long-term average catch that can be taken from a stock or stock complex under prevailing conditions. OY is prescribed on the basis of MSY, and MSY informs the status determination criteria that are used to determine whether a stock is overfished or subject to overfishing. MSY therefore also informs the harvest limits set to achieve OY and prevent overfishing. As further explained below, MSY is a reference point, informed by the best available scientific information, related to maximum possible sustainable removals of a stock or stock complex throughout its range. Therefore, MSY must be defined at the stock or stock complex level without reference to management jurisdictions. In contrast, OY is a long term average amount of desired yield from a particular stock or fishery and is generally set below MSY. Under Amendment 16, OY would be defined at the EEZ fishery level to both account for the interactions between salmon stocks in the ecosystem and provide Federal managers with a target that is within their control to achieve.

To have a sustainable salmon fishery, sufficient numbers of salmon from each stock must avoid harvest and reproduce (spawn) in freshwater. The number of spawning salmon is termed “escapement” because they have escaped capture by all fisheries and predators to spawn. Estimates of how many salmon are expected to return from a given number of spawning salmon can be developed through the long term process of comparing escapement numbers to subsequent return numbers. For most stocks, the long term management objective is to allow a range of spawners that is likely to result in the highest potential for future yield (harvest in excess of spawning escapement). There is always uncertainty in what number of spawners will result in the highest future yield because the percentage of salmon that survive is different each year due to environmental conditions, the quality of the spawning population, and other factors. As such, the same numbers of spawning salmon could produce different numbers of returning offspring in different years. Because of this, the target number of spawning salmon (escapement goal) is generally defined as a range that is likely to achieve high yields over a broad range of expected conditions.

For example, if an escapement goal range for a stock is established as 750,000 to 1,000,000 fish based on the best available scientific information, then management is adjusted to try and achieve escapement within that range each year. The escapement target is fixed regardless of any other factor, unless or until better information becomes available that would cause fishery managers to revise an escapement goal. However, because of both changes to actual escapement and the survival of salmon, the management measures required to achieve the escapement goal can be very different across years. If the survival rate of offspring is poor in any given year—perhaps due to prevailing ocean conditions that year—then it is possible that few or no returning salmon could be harvested by fisheries while still allowing sufficient numbers to spawn and achieve the escapement goal. In contrast, when the survival rate is high, then fishing opportunities can be liberalized while still meeting the escapement goal. Escapement goals are often fixed for multiple years, and are only changed when multiple additional years of spawning and returning salmon show that a different number of spawning salmon is likely to optimize yields due to changing environmental conditions, better data, or other considerations. As described in the Salmon FMP, escapement goals for each stock will be vetted through the Federal management process. Harvest specifications established under Federal management would set ACLs to achieve at least the lower bound of spawning escapement goals for each stock to provide as much harvest opportunity as possible while avoiding overfishing on all stocks.

Under the Magnuson-Stevens Act, MSY is defined as the largest long-term average catch that can be taken by the fishery under prevailing ecological, environmental conditions and fishery technological characteristics (e.g., gear selectivity), and the distribution of catch among fishery sectors (50 CFR 600.310(e)(1)(i)). Under Amendment 16, MSY would be specified for salmon stocks and stock complexes in Cook Inlet, consistent with the National Standard Guidelines. MSY would be defined as the maximum potential yield, which is calculated by subtracting the lower bound of the escapement goal (or another value as recommended by the Council's Scientific and Statistical Committee (SSC) based on the best scientific information available) from the total run size for stocks where data are available. Any fish in excess of that necessary to achieve the escapement goal for each stock or stock complex are theoretically available for harvest under this definition of MSY. For stocks where escapement is not known, historical catch would be used as a proxy for MSY.

This definition of MSY is based on escapement goals established for salmon stocks in Cook Inlet, as informed by salmon stock assessments that use the best scientific information available, and undergo peer review by the Council's SSC. Escapement goals account for biological productivity and other ecological factors. Representative indicator stocks are used to determine a suitable MSY proxy for stock complexes where escapement is not directly known for each component stock. Currently, the best scientific information available to determine escapement goals for stocks in Cook Inlet are contained in the escapement goal analysis reports developed by the State of Alaska, which have been vetted by the SSC (Sections 3.1 and 12 of the Analysis). The escapement goals and catch history used to establish MSY for each stock and stock complex would continue be evaluated by the SSC during the annual stock assessment and harvest specification process and changed if necessary as new scientific information becomes available.

As discussed in Section 14 of the Analysis, prior to endorsing this definition of MSY, the SSC reviewed an independent analysis of the primary sockeye salmon stocks harvested by the fishery (Late-Run Kenai and Kasilof) that found that estimates of spawning abundance expected to maximize yield were in agreement with the State escapement goal ranges established for these stocks. Further, the SSC considered alternate analyses submitted through public comment at the Council and did not find that they provided a better estimate of MSY.

OY is another critical reference point because it defines the long-term management target for the fishery. Magnuson-Stevens Act section (3)(33) defines “optimum,” with respect to the yield from a fishery, as the amount of fish that will provide the greatest overall benefit to the Nation, particularly with respect to food production and recreational opportunities, and taking into account the protection of marine ecosystems; that is prescribed on the basis of the MSY from the fishery, as reduced by any relevant economic, social, or ecological factor; and, in the case of an overfished fishery, that provides for rebuilding to a level consistent with producing the MSY in such fishery. Achieving, on a continuing basis, the OY from each fishery means producing, from each stock, stock complex, or fishery, an amount of catch that is, on average, equal to the Council's specified OY; prevents overfishing; maintains the long term average biomass near or above the level expected to produce MSY; and rebuilds overfished stocks and stock complexes consistent with timing and other requirements of section 304(e)(4) of the Magnuson-Stevens Act and National Standard 1.

Because OY must be defined on the basis of MSY, the potential upper bound would be all excess yield above the lower bound of the escapement goal for each stock in the EEZ. However, because it is not possible to harvest one stock at a time in this mixed stock fishery, because there are weak stocks intermingled with stocks that regularly exceed their escapement goal, and because harvest of all Cook Inlet stocks also occurs in State marine and fresh waters, OY must be reduced from MSY to account for these various ecological, economic, and social factors. For this reason, OY would be defined at the fishery level to account for mixed stock harvest and variabilities in run strength.

Defining OY for the Cook Inlet EEZ salmon fishery is particularly challenging. Scientific information critical to defining OY for the Cook Inlet EEZ includes estimates of stock-specific historical harvests by fishery sector and escapements, as well as salmon stock assessments. All of these elements have varied substantially over time as a result of changes in salmon productivity, the relative abundance of salmon stocks, management measures intended to protect weak stocks, and management measures that have changed the allocations among salmon harvesters in Cook Inlet as the regional population has grown and fisheries have further developed.

Amendment 16 would define the OY range for the Cook Inlet EEZ salmon fisheries in the Salmon FMP as the range between the averages of the three lowest years of total estimated EEZ salmon harvest and the three highest years of total estimated EEZ salmon harvest from 1999 to 2021. The intent of using averages of the years with lowest and highest years of harvests is to temper the influence of extreme events in defining OY (e.g., fishery disasters at the low end, or extremely large harvests at the high end), thereby resulting in a range of harvests that are likely to be sustainable and provide the greatest net benefit to the Nation into the future. The period of time under consideration (1999-2021) represents the full range of years for which reliable estimates of Cook Inlet EEZ harvest are currently available, and represents a broad range of recent conditions in the fishery that may also be reasonably foreseeable in the future. This includes periods when State regulations allowed additional drift gillnet harvest in the Cook Inlet EEZ, as well as periods when time and area restrictions have limited harvest in the area. Harvests by the recreational sector in the area have averaged under 100 salmon per year, but are also included in the OY range. This results in a proposed OY range of approximately 291,631 to 1,551,464 salmon of all species.

This OY also reflects a range of harvests that have provided for viable fisheries in the Cook Inlet EEZ in both high and low salmon abundance years across a wide range of ecological conditions while also avoiding overfishing and achieving escapement goals for most stocks in most years. Looking at average total EEZ salmon harvest in years of high and low abundance accounts for the fact that the different stocks and species of salmon will have varying total and relative abundances each year—a high abundance year for one species may be a low abundance year for another. It also acknowledges that the Cook Inlet EEZ commercial salmon fishery sector, which harvests over 99.99 percent of salmon in the EEZ (the remaining harvest being recreational), cannot individually target strong stocks of salmon without also harvesting other stocks that may not be able to support as much harvest and still meet their escapement goal. OY would therefore be defined as the average range of target EEZ harvest across all species that maximizes fishing opportunities while preventing overfishing on any one stock. This OY range provides the greatest overall net benefits to the Nation because it would ensure sustainable stock levels throughout the ecosystem, preserve a viable commercial fishery sector that ensures continued food production, maintain a viable recreational fishing sector that attracts participants from throughout the Nation, and protect subsistence harvest opportunities.

Status Determination Criteria and Annual Catch Limits

Amendment 16 would specify objective and measurable criteria for determining when a stock or stock complex is subject to overfishing or overfished. These are referred to as status determination criteria, and are established during the harvest specification process and evaluated each year after fishing is complete.

Amendment 16 would establish a tier system to assess salmon stocks based on the amount of available information for each stock. NMFS would annually assign each salmon stock into a tier based on the best available scientific information during the harvest specifications process as follows:

• Tier 1: salmon stocks with escapement goals and stock-specific estimates of harvests

• Tier 2: salmon stocks managed as a complex, with specific salmon stocks as indicator stocks

• Tier 3: salmon stocks or stock complexes with no reliable estimates of escapement

The tier system uses a multi-year approach for calculating the status determination criteria. This accounts for high uncertainty in the estimate of fishery mortality in the most recent year, high stock abundance fluctuations, assessments that are not timely enough to forecast such changes, and the fact that a cohort of salmon spawned in a single year may return at different ages to be harvested or spawn.

For stocks and stock complexes where escapement is known (e.g., Tier 1), or is thought to be a reliable index for the number of spawners in a stock complex (Tier 2), overfishing is defined as occurring when the fishing mortality rate in the Cook Inlet EEZ Area (FEEZ) exceeds the maximum fishery mortality threshold (MFMT). The MFMT for a stock or stock complex is calculated as the sum of maximum potential yield for that stock in the EEZ for the most recent generation (e.g., the most recent 5 years for sockeye salmon), divided by the sum of total run size of that stock for the most recent generation. This calculation would be used to evaluate whether overfishing occurred each year. For this definition, maximum potential yield in the EEZ means harvest in excess of the spawning escapement goal (e.g., lower bound of the spawning escapement goal) when accounting for harvests in other fisheries. Escapement goals used in calculating the status determination criteria for each stock would be recommended by NMFS and adopted by the SSC based on the best scientific information available.

For Tier 3 stocks, which have no reliable estimates of escapement, overfishing would occur when harvest exceeds the overfishing limit (OFL). The OFL for Tier 3 stocks would be set as the maximum EEZ catch of the stock multiplied by the generation time (years). The result of this calculation would be compared against the cumulative EEZ catch of the stock for the most recent generation. The SSC may recommend an alternative catch value for OFL on the basis of the best scientific information available.

Under National Standard 1, a stock or stock complex is considered “overfished” when its biomass declines below a minimum stock size threshold (MSST). MSST means the level of biomass below which the capacity of the stock or stock complex to produce MSY on a continuing basis has been jeopardized. Escapement is used to evaluate a salmon stock's capacity to produce MSY. For Cook Inlet salmon, the MSST will be calculated for stocks in Tier 1 and 2 as follows: a stock or stock complex is overfished when summed escapements over a generation fall below one half of summed spawning escapement goals over that generation. Escapement goals used in establishing Federal status determination criteria would be recommended by NMFS and adopted by the SSC.

For Tier 1 and Tier 2 stocks, the Salmon FMP would specify OFL as the amount of salmon harvest in the EEZ for the coming year that would correspond with the MFMT, based on information available preseason. Acceptable biological catch (ABC) would then be established based on OFL. As an ABC control rule, ABC must be less than or equal to OFL, and the SSC may recommend reducing ABC from OFL to account for scientific uncertainty, including uncertainty associated with the assessment of spawning escapement goals, forecasts, harvests, and other sources of uncertainty. The annual catch limit (ACL) for each stock would then be set equal to ABC.

For Tier 3 stocks there is not information to determine MSST. ABC for these stocks would be based on the OFL with an additional buffer for scientific uncertainty. As an ABC control rule, ABC could be set lower by applying a more conservative buffer to the OFL to account for greater scientific uncertainty regarding the stock. ACL would then be set at ABC.

While ABC and ACL would be calculated based on the best scientific information available preseason when harvest specifications must be established, realized harvest and escapement data would be used postseason to determine whether ACLs were exceeded, whether overfishing occurred, and if any stocks were overfished. Accountability measures would be applied to prevent the recurrence of any ACL overages.

De Minimis Fishing Provision

There are significant concerns about some Cook Inlet salmon stocks that are at low levels of abundance and productivity. For example, despite extensive fishery restrictions, there have been several recent years in which Chinook salmon escapements for some stocks did not meet their escapement goals and drift gillnet fishing was still allowed. As discussed later in Mixed Stock Management Considerations, the drift gillnet fleet harvests only small quantities of Chinook salmon, and they are not a primary target species for the fishery.

De minimis fishing provisions would allow small amounts of incidental catch of stocks that are at low levels of abundance and for which there is minimal or no available projected yield, so long as de minimis harvest would not result in overfishing or the stock becoming overfished. De minimis fishing provisions give flexibility to the process of setting status determination criteria when the escapement goals for limiting stocks are projected to not be met, but harvest by the fishery is not expected to have significant impacts to the stock or result in a conservation concern. This can provide opportunity to harvest salmon stocks that are more abundant and reduce the risk of fishery restrictions that impose severe economic consequences on fishing communities without substantive management or conservation benefits. While de minimis provisions would be intended to provide management flexibility, there is an overriding mandate to prevent overfishing on and preserve the long-term productive capacity of all stocks to ensure meaningful contributions to all fisheries in the future.

Under Amendment 16, if a preseason forecast suggests that the lower bound of the escapement goal will not be achieved for a given stock, de minimis harvest on the stock may be allowed if the SSC determines that the de minimis harvest will not result in overfishing. Thus, the maximum allowable de minimis harvest amount would be established to keep the post-season fishing mortality rate below MFMT.

The SSC may recommend limiting allowable de minimis catch as needed to address uncertainties or year-specific circumstances. When recommending a de minimis catch limit in a given year, the SSC may also consider recent and projected abundance levels; the predicted magnitude of harvest in the EEZ; the status of other stocks in the mixed-stock fishery; indicators of marine and freshwater environmental conditions; impacts from other fisheries; whether the stock is currently subject to overfishing or approaching an overfished condition; whether the stock is currently overfished; and any other scientific considerations as appropriate.

Management measures and any required accountability measures necessary to implement a de minimis harvest provision and prevent overfishing or any stock becoming overfished would be considered during the harvest specifications process.

Harvest Specifications and Annual Processes

Amendment 16 would establish the annual harvest specification process for the Cook Inlet EEZ Area, along with specific definitions of required status determination criteria using the tier system described in the previous section.

The Federal fishery management cycle begins with the preparation of a Stock Assessment and Fisheries Evaluation (SAFE) report. The SAFE report would provide the SSC and Council with a summary of the most recent biological condition of the salmon stocks, including all status determination criteria, and the social and economic condition of the fishing and processing industries. NMFS would develop the SAFE for the Cook Inlet EEZ Area and public review would occur through the SSC and Council process. The Council could choose to establish a plan team through subsequent action.

The SAFE report would summarize the best available scientific information concerning the past, present, and possible future condition of Cook Inlet salmon stocks and fisheries, along with ecosystem considerations. This would include recommendations of OFL, ABC, ACL, and MSST that are calculated following the tier system in the FMP and described in Section 2.5.2 of the Analysis. The SAFE report would include a final post-season evaluation of the previous fishing year based on realized catches and escapement with all information needed to make “overfishing” and “overfished” determinations, as well as recommendations to develop harvest specifications for the upcoming fishing year. All recommendations would be based on the best scientific information available and would take into account any applicable uncertainty. In providing this information, the Salmon SAFE would use a time series of historical catch for each salmon stock, including estimates of retained and discarded catch taken in the salmon fishery; bycatch taken in other fisheries; catch in State commercial, recreational, personal use, and subsistence fisheries; and catches taken during scientific research (e.g., test fisheries).

The Salmon SAFE report would also provide information to the Council for documenting significant trends or changes in the stocks, marine ecosystem, and fisheries over time, as well as the impacts of management. The Cook Inlet EEZ Area Salmon SAFE would be structured like other Council SAFEs such that stock assessments, economic analyses, and ecosystem considerations comprise the three major themes of the SAFE document. The SAFE could contain economic, social, community, essential fish habitat, and ecological information pertinent to the success of salmon management or the achievement of Salmon FMP objectives.

The SSC would review the SAFE and recommend the OFL, ABC, ACL, MFMT, and MSST, which are cumulatively used to determine the maximum allowable harvest for each stock based on biology and scientific uncertainty in the assessments. This SSC review would constitute the official, peer review of scientific information used to manage the Cook Inlet EEZ Area salmon fishery for the purposes of the Information Quality Act. Upon review and acceptance by the SSC, the Salmon SAFE and any associated SSC comments would constitute the best scientific information available for purposes of the Magnuson-Stevens Act.

The Council would then recommend total allowable catches (TACs) for each salmon species in the Cook Inlet EEZ salmon fishery to the Secretary. The TAC is referred to as an “Annual Catch Target” in the National Standard 1 guidelines, but hereafter referred to as a TAC given common usage of the term by the Council. Closing a fishery when TACs are met is a recommended form of an accountability measure (AM) used to ensure an ACL is not exceeded. A TAC is an amount of annual catch of a stock, stock complex, or species that is the management target of the fishery, accounts for management uncertainty in controlling the catch at or below the ACL, and must be set equal to or less than ABC. The TACs would be set at the species level because estimates of stock contribution to EEZ fishery harvests cannot currently be made until after the fishing season. As such, in setting the TAC for each species, the Council would consider the estimated proportional contribution of each stock to total harvest of a species such that ACLs are not expected to be exceeded for any component stock if the TAC is fully achieved. If inseason genetic information becomes available, it may be possible to establish and manage for TACs for individual stocks within the same species (e.g., Kenai River sockeye and Kasilof River sockeye). Because NMFS and the Council have never previously managed a drift gillnet salmon fishery in Alaska, and as described in Section 2.5.2.6 of the Analysis, there are significant new management uncertainties that are introduced by this action, TACs will be a crucial management tool.

To establish these Magnuson-Stevens Act required ACLs and their implementing TACs, NMFS would publish proposed and final salmon harvest specifications in the Federal Register. Under the Federal rulemaking process, the public is informed through the Federal Register of Federal actions and can comment on them and provide additional information to the agency. A final rule is then issued with modifications, as needed, and includes the agency responses to issues raised by public comments. This is a lengthy process: it takes a significant amount of time to conduct the stock assessments, review them through the SSC and Council, make any overfishing or overfished determinations, recommend TACs, and then conduct notice and comment rulemaking under the Administrative Procedure Act.

Because harvest specifications must be in place before the fishery begins, this process must rely on salmon forecasts. NMFS would use Alaska Department of Fish and Game (ADF&G) pre-season salmon forecasts (subject to NMFS and SSC review) or develop suitable alternate forecasts. Fundamentally, status determination criteria and harvest specifications would be calculated in terms of potential yield for the Cook Inlet EEZ and would be based, in part, on the forecasted run size minus the minimum number of salmon required for spawning and the expected mortality in other fisheries. If no forecasts are available, NMFS would use fishery catch in prior years to inform harvest specification, as it does for other data-limited fisheries.

Cook Inlet EEZ Commercial Salmon Fishing Management Measures

Salmon fisheries in Cook Inlet are complex and must take into account many different factors when establishing management measures for each component sector. The drift gillnet fleet generally harvests the largest proportion of salmon in Cook Inlet of any fishery sector and has significant harvest power. The State has historically managed the drift gillnet fishery through the combination of time and areas open to fishing. This section provides a discussion of key considerations related to status quo management of the Cook Inlet drift gillnet fleet and proposed Cook Inlet EEZ management measures under this action.

Seasonal Fishery Progression

Commercial salmon fishing in Cook Inlet is bounded by when salmon return to the Cook Inlet en route to natal freshwater locations to spawn. Commercial salmon fisheries in Cook Inlet begin in June under State regulations. Around this time, Chinook salmon are already present in Cook Inlet and sockeye salmon begin migrating into Cook Inlet from the Gulf of Alaska. As salmon begin to move into Cook Inlet, with the exception of Chinook, they typically group in large tide rips in the middle of Cook Inlet (i.e., the EEZ) to start moving north up the inlet toward their spawning streams, rivers, and lakes. The first commercial fishery that salmon typically encounter when moving up Cook Inlet is the upper Cook Inlet drift gillnet fishery. Commercial salmon fisheries south of this area occur entirely in State waters.

In the Cook Inlet EEZ, salmon stocks originating from throughout Cook Inlet are mixed together. As they move northward up farther into Cook Inlet, individual salmon stocks will eventually move shoreward into State waters to reach their spawning streams. Stocks returning to freshwater systems farther north in Cook Inlet tend to stay close to the middle of the inlet when they move through the Cook Inlet EEZ Area. The Upper Cook Inlet drift gillnet fishery occurs entirely within the State's “Central District,” which are waters north of the Anchor Point line at 59°46.15′ N to approximately Boulder Point at 60°46.39′ N. Commercial, subsistence, recreational, and personal use salmon fisheries also occur northward of Boulder Point, which includes the waters of Turnagain Arm and Knik Arm, and this area is generally referred to as the State's “Northern District.” All salmon returning to the Northern District must first past through fisheries in the Central District before reaching fisheries and spawning grounds in the Northern District.

Mixed Stock Management Considerations

In recent years, the State's management of Cook Inlet salmon has been complicated by the relative abundance of salmon stocks, and the characteristics of the different user groups and gear types. Central District drift gillnet, set gillnet, recreational, and personal use fishermen all target valuable Kenai and Kasilof sockeye salmon, which in recent years have been in relatively high abundance. As described in Section 4.5 of the Analysis, sockeye salmon accounted for more than 80 percent of the salmon caught in the drift gillnet fishery, and an even greater percentage of fishery value from 1990-2021. Over this same time, the drift gillnet fishery has harvested approximately 42 percent of the sockeye salmon in Cook Inlet, while the set gillnet fishery harvested around 40 percent, and non-commercial harvests accounted for the remainder.

The amount and proportion of harvest by each fishery is significantly impacted by which salmon stocks it targets, or cannot avoid, and whether unintended catch can be released alive. Gillnet gear generally catch all species of salmon in the area and cannot target individual stocks. It is assumed that salmon that become entangled in commercial gillnet gear generally do not survive being released. Therefore, management must consider all stocks that would be harvested by each drift gillnet fishery opening, the conservation status of each stock, and their relative abundance. While Kenai and Kasilof sockeye salmon stocks have been abundant in recent years, salmon abundance can be highly variable over time and management plans must be able to account for a wide variety of absolute and relative salmon stock abundance scenarios.

The drift gillnet fishery harvests only approximately 1 percent of upper Cook Inlet Chinook salmon, on average. This is because Chinook salmon generally migrate in State waters near the shore outside of EEZ and State waters open to drift gillnet fishing, or at depths below drift gillnet gear. However, the drift gillnet fishery, particularly in the Cook Inlet EEZ, can catch significant quantities of Cook Inlet sockeye and coho salmon stocks bound for the Northern District. These are smaller and less productive stocks that cannot support as much harvest as co-occurring Kenai and Kasilof sockeye salmon stocks. The Cook Inlet EEZ is a productive fishing area for all Cook Inlet sockeye salmon and coho stocks, as they are aggregated in tide rips within the Cook Inlet EEZ.

Fishing at a rate to fully harvest the most abundant stocks would likely result in overfishing on these weaker or less abundant salmon stocks. Therefore, to support conservation of these Northern District stocks, and to ensure at least some harvestable surplus for Northern District salmon fisheries, the State has reduced the number of drift gillnet fishing periods in Cook Inlet EEZ waters after July 15 to minimize mixed stock harvests. After this date, State management measures in the last decade generally reduced fishing time in the EEZ and provided additional fishing time in State waters on the east side of Cook Inlet, adjacent to the Kenai and Kasilof Rivers to focus harvests on Kenai and Kasilof salmon stocks during the peak of the run. This management approach was in response to significant declines in coho salmon stocks and long term yield concerns for Northern District sockeye salmon, as well as an increasing populations in the Anchorage and Kenai Peninsula areas utilizing Cook Inlet salmon resources. This has also limited the drift gillnet fleet's harvests of pink and chum salmon stocks.

Additionally, reducing Cook Inlet EEZ harvests after July 15 allows for the collection of more data on escapement and realized salmon abundance in order to either avoid overharvesting a given stock or increase harvest to more fully utilize abundant runs. After July 15, the amount of fishing time available to the drift gillnet fleet under State management has varied widely depending on run strength. For Kenai and Kasilof sockeye salmon stocks, managers get robust information on run strength from an inseason abundance model around July 25. Prior to July 25, there is significant uncertainty from the inseason model about run strength for these stocks, which increases management uncertainty. A major concern is harvesting too many fish and not meeting spawning escapement goals, potentially resulting in overfishing. This issue is exacerbated for Northern District stocks, for which there is significant time lag (relative to Kenai and Kasilof stocks) between harvest in the Cook Inlet EEZ and information on escapement becoming available.

The State has adjusted management within State waters, where stocks are more distinctly separated, to focus on harvests on Kenai or Kasilof stocks while minimizing drift gillnet harvests of Northern District salmon stocks. Fishery managers must also account for harvest in freshwater fisheries upstream of escapement monitoring when making management decisions to reach final escapement goal targets (e.g., 1.4 million salmon may be counted at the monitoring station, but if 200,000 are subsequently caught in freshwater fisheries, than only 1.2 million salmon would actually spawn).

Proposed Federal Commercial Fishing Season and Fishing Periods

Under this proposed rule, the Cook Inlet EEZ Area would open to commercial drift gillnet fishing on a Monday, either the third Monday in June or the Monday on or after June 19, whichever is later. Prior to this time, salmon stocks harvested by the drift gillnet fleet are not present in commercially viable quantities. Historically, estimated harvests in the EEZ have been relatively small during the initial openings as sockeye salmon are just beginning to move into the area and the bulk of the fish do not arrive until July. Opening after mid-June helps avoid potential additional impacts to early-run Cook Inlet Chinook salmon stocks. These stocks migrate through upper Cook Inlet in May and early June. Opening the drift gillnet fishery after mid-June would also continue to provide consistent data to inform State and Federal managers about preliminary estimates of run strength compared to historical averages. The scientific test fishery carried out by the State, which also helps provide information about salmon run strength in Cook Inlet, would not be affected by this action and could continue to occur.

After the season start date, this proposed rule would open the Cook Inlet EEZ Area for drift gillnet fishing for two,12-hour periods each week, from 7 a.m. Monday until 7 p.m. Monday, and from 7 a.m. Thursday until 7 p.m. Thursday until either (1) the TAC is reached, or (2) August 15, whichever comes first. This schedule would align possible drift gillnet fishing periods in the Cook Inlet EEZ with current State drift gillnet periods, thereby maintaining a similar number of regular drift gillnet fishing periods per week. If the State and Federal fisheries were open on separate days, there could be additional drift gillnet openings that could result in significantly increased harvest (the drift gillnet fleet has the potential to harvest over 300,000 salmon per opening), and there are not existing data to inform managers about the potential impacts of additional openings on spawning escapement and other salmon users.

Some drift gillnet fishery stakeholders requested that NMFS open the drift gillnet fishery for three, 12-hour periods per week from June through October. If NMFS were to allow that amount of fishing opportunity, overfishing on some Cook Inlet salmon stocks—particularly Northern District stocks of low abundance—would be more likely. Under such a management approach, it is possible that even a complete closure of State fisheries would be insufficient to prevent overfishing on low abundance stocks.

NMFS received input from other Northern District salmon users and tribes in Northern Cook Inlet requesting that Federal management measures limit EEZ harvests during the middle of the season to allow for a harvestable surplus of salmon for Northern District salmon fisheries.

As a result of this conflicting feedback, NMFS carefully considered when the commercial drift gillnet fishery in the EEZ should be closed. Under the Magnuson-Stevens Act, ACLs must be established for each fishery, along with accountability measures to prevent ACLs from being exceeded. Because there is both scientific and management uncertainty surrounding the ACLs set for each stock or stock complex, TACs are set as the management target for the fishery to prevent exceeding ACLs. The fishery would be closed when the TAC for a single species is reached. Because of the mixed-stock nature of the fishery, the drift gillnet fleet could not avoid continuing to harvest stocks for which the TAC had been reached and target only those stocks for which there was still TAC remaining.

In addition to closing the fishery when a TAC is reached, NMFS considered whether a fixed commercial fishery season closure date may be required. Season closure dates are commonly used to end fisheries when a TAC is not reached, and to achieve other conservation and management objectives. To describe how these management measures would interact, the fishery would close before the closure date if the TAC is reached prior to that date. NMFS may also close the fishery before a TAC or the closure date is reached in the event it has information showing further fishery openings could result in overfishing of any stock. One potential example of this is if actual salmon returns were significantly below the salmon forecasts. In this instance, fishing to fully achieve a TAC based on a forecast that is much higher than realized abundance could result in not meeting at least the lower bound of the escapement goal, overfishing occurring, or both.

In developing this proposed rule NMFS evaluated a range of potential options, including no closure date and a closure date as early as July 9. After receiving input from drift gillnet stakeholders that a fixed July closure could severely restrict fishing opportunities and would not account for delayed run timing that has been observed in recent years, NMFS is proposing an August 15 closure date. In years when there is sufficient TAC and salmon abundance to support a longer fishing season, this could result in additional EEZ fishing days in mid-July and greater harvest of one or more stocks in the EEZ relative to status quo management. However, due to mixed stock management considerations, total annual removals in the Cook Inlet EEZ and throughout Cook Inlet would generally be expected to remain consistent with historical averages that, when accounting for run size, have prevented overfishing. NMFS would still manage to protect weak stocks in Northern Cook Inlet in years of low abundance. As under existing management, the number of EEZ fishing days is expected to vary based on the abundance of salmon (i.e., amount of fishing time required to achieve the target harvest when accounting for all stocks that are being harvested before the fishery is closed). NMFS also received input from other Cook Inlet stakeholders concerned about the potential negative impacts of an extended EEZ drift gillnet fishery on salmon stocks and later occurring fisheries in Cook Inlet, particularly without restrictions in mid-July that have been occurring under State management. These stakeholders raised concerns about reduced harvestable surplus for other fisheries outside of the EEZ and concerns about achieving spawning escapement goals. NMFS anticipates addressing these concerns through the annual harvest specification process, which would account for total removals of each stock and scientific uncertainty.

NMFS is particularly interested in feedback from the public about the implications of an August 15 closure date—or an earlier or later closure date—on fishery resources and participants, or impacts on any other part of the ecosystem. NMFS will take all public comments into consideration and may modify the closure date in the final rule.

NMFS has significant concerns about management measures that would significantly increase salmon harvests above the status quo, particularly of Northern District salmon stocks, because that may decrease prey availability for endangered Cook Inlet beluga whales. Reduced availability of salmon prey in the Northern District, where Cook Inlet beluga whales are concentrated during the summer, has been identified in the Cook Inlet Beluga Whale Recovery Plan as a threat for Cook Inlet beluga whales. If this proposed action results in reduced prey availability, take of belugas would need to be authorized under the Endangered Species Act (ESA) assuming such take could be authorized and would not jeopardize the continued existence of the species. NMFS Sustainable Fisheries Division is consulting under ESA section 7 with NMFS Protected Resources Division to evaluate the potential impacts of these proposed management measures to all ESA listed species that may be affected.

Inseason Management

NMFS would carry out inseason management of the commercial salmon fishery in the Cook Inlet EEZ Area. Fishing would occur during the regularly scheduled fishing periods described above. As the fishing season progresses, NMFS would project the additional harvest expected from each additional opening of the fishery based on the number of participating vessels, catch rates, and any other available information. NMFS would carry out an inseason action to close the fishery if projections indicate that an additional fishery opening would be expected to exceed the TAC specified for one or more salmon stocks or species. Inseason actions also may be necessary to ensure that overfishing of salmon stocks or species does not occur. NMFS would publish every inseason action in the Federal Register to notify the public of the effectiveness.

NMFS would monitor all available sources of information during the fishery to evaluate whether the TAC was specified correctly. If information indicates that the number of salmon returning to Cook Inlet is significantly different than what was forecasted, NMFS may make adjustments to management of the fishery. If information indicates that run strength is significantly below what was forecasted, then fishing to fully achieve that TAC would likely result in overfishing. Therefore, NMFS may close the fishery before the season closure date to prevent overfishing if information indicates that abundance is significantly lower than expected. This may be determined based on fishery catches, test-fishery catches, escapement, or any other scientific information.

NMFS may consider an inseason adjustment to modify the TAC if scientific information indicates that salmon abundance is significantly higher than forecasted. To implement an inseason adjustment, NMFS must publish a temporary rule in the Federal Register and consider all public comments on the action. Any such action must not result in overfishing on any other co-occurring fish stocks and would also consider the potential impacts of such an action to all Cook Inlet salmon harvesters. Depending on the specifics of the situation, it may take up to 30 days to implement an inseason adjustment to the TAC. NMFS could not adjust the TAC above any ABC or allowable de minimis amounts set forth in the harvest specifications established for the Cook Inlet EEZ Area in that fishing year without engaging in notice and comment rulemaking to amend the specifications.

This proposed rule also considers the potential for adjustments to fishing time and area, as well as reopening the fishery within the fishing season defined in regulation to achieve conservation and management goals. These tools may be used to either increase or decrease harvests in the Cook Inlet EEZ Area drift gillnet fishery as appropriate based on the specified TAC amounts, the amount already harvested, and other available information. NMFS expects to refine application of these management tools as it develops management expertise and collects data over time.

Proposed Federal Management Area

The proposed management area is all Federal waters of upper Cook Inlet (EEZ waters of Cook Inlet north of a line at 59°46.15′ N). This is analogous to previous State management of the area under “Area 1” openings, excluding the State water portion of the area off the Southeast corner of Kalgin Island. The State's “Districtwide” openings included all of the Federal waters in “Area 1” and also allowed fishing in all State waters of the Central District. The State's openings of these areas include approximately all Federal waters of upper Cook Inlet.

Retention of Bycatch

Drift gillnet vessels fishing in the Cook Inlet EEZ Area would be able to retain and sell non-salmon bycatch including groundfish (e.g., Pacific cod, pollock, flounders, etc.). These are referred to as incidental catch species and this proposed rule allows fishermen to retain these species up to a specified maximum retainable amount (MRA). Drift gillnet vessels retaining non-salmon incidental catch species would be required to have a groundfish Federal fisheries permit (FFP) as well as comply with all State requirements when landing these fish in Alaska. The MRA of an incidental catch species is determined as a proportion of the weight of salmon on board the vessel.

Table 10 to 50 CFR part 679 is used to calculate MRA amounts in the Gulf of Alaska, and would also be used to calculate MRA amounts for the Cook Inlet EEZ Area. For commercial salmon fishing in the Cook Inlet EEZ Area, the basis species would be salmon, which would be classified as “Aggregated amount of non-groundfish species” for the purposes of the calculation. To obtain the MRAs for each incidental catch species, multiply the retainable percentage for the incidental catch species by the round weight of salmon (Basis Species—Aggregated amount of non-groundfish species) on board. For example, if there were 100 pounds (45.36 kg) of salmon aboard the vessel, then 20 pounds (9.07 kg) of pollock could be retained, 5 pounds (2.27 kg) of aggregated rockfish, 20 pounds (9.07 kg) of sculpins. Pacific halibut are not defined as a groundfish and could not be retained by drift gillnet vessels.

Vessels landing bycatch species in Alaska would have to comply with all State requirements, including any applicable State permits.

Cook Inlet EEZ Commercial Salmon Fishery Monitoring, Recordkeeping, and Reporting Requirements

This action would manage the Cook Inlet EEZ salmon fishery separately from the adjacent State waters salmon fisheries. To manage the fishery successfully and avoid overfishing, Federal managers need accurate and rapidly reported catch data from the EEZ. The eLandings system is an electronic system for reporting commercial fishery landings in Alaska used to manage both State and Federal fisheries. Landings submitted through eLandings are transmitted to NMFS multiple times per day which would allow managers to have the most up to date information possible. This proposed rule would require processors to report all landings of Cook Inlet salmon harvested in the EEZ through eLandings by noon of the day following completion of the delivery. In order to implement this reporting requirement and other monitoring, recordkeeping, and reporting measures, fishing vessels (harvesters), processors, and other entities receiving deliveries of Cook Inlet EEZ salmon (i.e., fish transporters, catcher sellers, and direct markets) would have to obtain Federal permits and comply with Federal recordkeeping, reporting, and monitoring requirements.

Requirements for Catcher Vessels

Harvesting vessel owners would be required to obtain a Salmon Federal Fisheries Permit (SFFP). NMFS would issue SFFPs at no charge to the owner or authorized representative of a vessel. An SFFP would authorize a vessel of the United States to conduct commercial salmon fishing operations in the Cook Inlet EEZ Area, subject to all other Federal requirements. An SFFP applicant must be a citizen of the United States. NMFS would issue SFFPs after receipt, review, and approval of a complete SFFP application. SFFPs would have a 3-year application cycle. Once a vessel owner or authorized representative obtains an SFFP, it would be valid for 3 years. Participants must maintain a physical or electronic copy of their valid SFFP aboard the named vessel. As with other Federal fisheries, if a vessel owner or authorized representative surrenders an SFFP, they could not obtain a new SFFP for that vessel until the start of the next 3-year permit cycle. This prevents vessels from regularly surrendering and reobtaining SFFPs to avoid Federal monitoring requirements.

The SFFP is associated with a specific vessel and not transferable to another vessel. If the vessel is sold, the new owner would need to apply for an SFFP amendment from NMFS to reflect the new owner or authorized representative of the vessel. A vessel could not operate in the Cook Inlet EEZ Area fishery until the SFFP amendment was complete and the amended SFFP issued. The SFFP number would be required to be displayed on the vessel's hull and buoys attached to the vessel's drift gillnet.

For a vessel being leased, the vessel operator would be considered the authorized representative of the SFFP holder and no amendments to the permit would be required. The vessel operator would be subject to all SFFP requirements and limitations and liable for any violations.

To monitor participation in the fishery and help Federal managers estimate expected removals from each opening, as well as to ensure that participants remain within EEZ waters open to fishing, the proposed rule would require commercial salmon fishing vessels to operate a Vessel Monitoring System (VMS). VMS transmits the real-time GPS location of fishing vessels to NMFS. This would also help ensure that vessels are not fishing in both State and EEZ waters during the same fishing trip, which would be prohibited under this proposed rule to improve the accuracy of catch accounting for Federal managers. VMS would also aid in verifying when a vessel may be lawfully transiting through Cook Inlet EEZ Area waters after participating in a State fishery. A vessel with an SFFP would be required to keep their VMS active within State waters to ensure that entire fishing trips are monitored and to help verify that no fishing occurred within State waters during a fishing trip that included salmon harvest in the Cook Inlet EEZ.

During fishing operations, a drift gillnet is not always attached to the vessel. Therefore, the position of the vessel as determined by VMS may be different than the exact location of the net it deployed. However, because drift gillnet vessels in Cook Inlet remain relatively close to their nets due to the significant tidal currents in the area, VMS data, when combined with logbook information and vessel or aircraft enforcement patrols, provides robust information to determine compliance with Federal fishing area, time, and catch accounting regulations. This approach is also more practicable and cost-efficient to fishery participants than the alternatives of comprehensive electronic monitoring systems or human fishery observers.

To collect catch and bycatch information, this proposed rule would require a Federal fishing logbook. Commercial salmon fishing vessels would record the start and end time and GPS position of each set, as well as a count of the catch and bycatch. In addition, any interactions or entanglements with marine mammals would be required to be recorded in the logbook. Logbook sheets would be submitted electronically to NMFS by the vessel operator when the fish are delivered to a processor. There is currently no quantitative information available on discards of salmon and groundfish in the Cook Inlet drift gillnet salmon fisheries or other closely analogous fisheries to estimate bycatch amounts and mortality. The data provided by the logbooks would provide this information and satisfy the Magnuson-Stevens Act Standardized Bycatch Reporting Methodology (SBRM) requirement (16 U.S.C. 1853(a)(11)). Information from logbooks would also be used to corroborate VMS data in the event of a suspected Federal fishery violation.

State requirements, including an appropriate State Commercial Fisheries Entry Commission (CFEC) permit(s), would still apply for drift gillnet vessels to land salmon or other species caught in the EEZ within the State or enter State waters.

This proposed rule would prohibit commercial salmon harvesting vessels from landing or otherwise transferring salmon caught within the Cook Inlet EEZ Area in the EEZ. Harvesting vessels delivering to tenders would have to do so within State waters. This proposed rule would also prohibit processing salmon (as defined by Federal regulations) in the EEZ aboard either the harvesting vessel or another vessel. Harvesting vessels would be permitted to gut, gill, and bleed salmon prior to landing, but could not freeze or further process salmon prior to landing their catch.

Requirements for Processors and Other Entities Receiving Deliveries of Commercially Caught Cook Inlet EEZ Salmon

The proposed rule would require processors that receive and process landings of salmon caught in the Cook Inlet EEZ Area by a vessel authorized by an SFFP to obtain a Salmon Federal Processor Permit (SFPP). This includes any person, facility, vessel, or stationary floating processor that receives, purchases, or arranges to purchase and processes unprocessed salmon harvested in the Cook Inlet EEZ Area, except registered salmon receivers. Persons or businesses that receive landings (deliveries) of Cook Inlet EEZ salmon from harvesting vessels but do not immediately process it, or transport it to another location for processing, would be required to obtain a Registered Salmon Receiver Permit (RSRP).

SFPP and RSRP holders would be required to be report all salmon landings through eLandings by noon of the day following completion of the delivery. This would ensure that Federal fishery managers would receive timely catch information from all Federal landings to inform Federal management actions. Landings would be reported using existing Cook Inlet drift gillnet statistical areas, with the addition of an EEZ identifier and a requirement to identify the Federal permit associated with each landing. This approach would maintain the continuity of long-term datasets for fishery managers and scientists while clearly delineating EEZ harvests.

NMFS would issue SFPPs and RSRPs on a 1-year cycle. The shorter timeframe reflects the need to maintain a current and comprehensive inventory of all Federal salmon landings in Cook Inlet given frequent business or ownership changes for Cook Inlet salmon processing and buying operations. If the ownership of an entity holding a SFPP or RSRP changes, the new owner would need to submit an application for an amended permit. The amended permit would be issued with a new permit number to reflect the change.

Because SFPPs would be facility-specific, one SFPP would be required for every processing facility, even if a facility was controlled by a company already holding an SFPP at another processing facility. An RSRP would be required for each entity receiving but not processing landings of Cook Inlet EEZ salmon at the location of the delivery. This includes fish transporters or buying stations that receive deliveries directly from harvesting vessels. The RSRP would ensure that there is not a significant time lag between a landing occurring across all entities that receive deliveries of Cook Inlet salmon and that information being reported to Federal managers.

These proposed regulations are intended to accommodate vessels that catch and then sell unprocessed or processed fish directly to consumers. For direct-marketing operations where the owner or operator of a harvesting vessel catches and processes their catch, both an SFFP and an SFPP would be required. For catcher-seller operations where the owner or operator of a harvesting vessel catches and sells unprocessed salmon (e.g., whole fish or headed and gutted) themselves, both an SFFP and an RSRP would be required.

The proposed rule would prohibit processing Cook Inlet EEZ salmon in EEZ waters in order to ensure historical participants and operation types are not displaced. Viscera and gills may be removed at sea. Freezing is considered processing per Federal regulations and therefore would be prohibited in Cook Inlet EEZ waters.

Other Commercial Fishery Management Measures and Prohibitions

This proposed rule would define the legal gear for the Cook Inlet EEZ Area drift gillnet fishery consistent with existing State gear to the extent practicable. Legal drift gillnet gear would be no longer than 200 fathoms (365.76 m) in length, 45 meshes deep, and have a mesh size no greater than 6 inches (15.24 cm). Maintaining gear definitions consistent with State regulations would prevent participants from having to acquire new gear to participate in the Federal fishery, and is expected to help maintain existing gear selectivity for comparability with historical data that would help Federal managers estimate expected catches. Buoys at each end of the drift gillnet would have to be marked with the participants' SFFP number.

Gillnets would be measured, either wet or dry, by determining the maximum or minimum distance between the first and last hanging of the net when the net is fully extended with traction applied at one end only. It would be illegal to stake or otherwise fix a drift gillnet to the seafloor. The float line and floats of drift gillnets would be required to float on the surface of the water while the net is fishing, unless natural conditions cause the net to temporarily sink.

This proposed rule includes the following prohibitions for drift gillnet fisheries in the Cook Inlet EEZ Area.

• Vessels would be prohibited from fishing in both State and Federal waters on the same day, or otherwise have on board or deliver fish harvested in both EEZ and State waters, to ensure accurate catch accounting for Federal managers.

• Vessels could not have salmon harvested in any other fishery on board.

• Vessels would be prohibited from having gear in excess of the allowable configuration or deploying multiple nets.

• Vessels would be prohibited from participating in other fisheries while drift gillnetting for salmon in the Cook Inlet EEZ Area and would not be allowed to have other fishing gear on board capable of catching salmon while commercial fishing (e.g., drift gillnetting) for salmon in the Cook Inlet EEZ Area.

• Because vessels legally participating in adjacent salmon fisheries transit across the Cook Inlet EEZ Area, vessels could have other fishing gear on board while moving through the Cook Inlet EEZ Area, but would be prohibited from commercial fishing for salmon within the Cook Inlet EEZ Area.

• Manned or unmanned aircraft could not be used to locate salmon or otherwise direct fishing.

• Vessels would be prohibited from discarding any salmon caught while drift gillnetting for salmon in the Cook Inlet EEZ Area.

Cook Inlet EEZ Recreational Salmon Fishing

The saltwater recreational fishery sector in the Cook Inlet EEZ is extremely small relative to the drift gillnet sector, harvesting an estimated annual average of 66 salmon of all species, or less than 0.01 percent of all salmon harvests in the Cook Inlet EEZ. This includes harvests by both guided (charter) anglers and unguided anglers. Over the course of a year, the limits historically established by the State are not constraining, and nearly all recreational salmon fishing occurs within State waters. Therefore, relatively limited management of Cook Inlet EEZ recreational salmon fishing is required at this time.

Recreational fishing in the Cook Inlet EEZ Area primarily targets Chinook and coho salmon. Pink and chum salmon are sometimes also caught and retained for personal consumption and bait. Sockeye salmon are rarely caught in the saltwater recreational fishery as recreational fishing gear does not target them effectively.

A small portion of recreational salmon fishing occurs during the winter, targeting immature Chinook salmon originating from stocks outside of Cook Inlet from October to the end of March. Other salmon species are not generally available and are not harvested by the recreational salmon fishery during this period.

The primary salmon species of potential conservation concern are Chinook salmon. Cook Inlet origin Chinook salmon generally migrate through Cook Inlet close to shore and are almost exclusively caught within State waters. Declines in Cook Inlet Chinook salmon stocks have resulted in significant restrictions and closures of this early season recreational fishery. In some years, restrictions on recreational anglers retaining coho salmon may also be required.

Cook Inlet EEZ Recreational Salmon Fishery Management Measures

This proposed rule includes management measures for recreational salmon fishing in the Cook Inlet EEZ Area. NMFS would establish bag and possession limits in Federal regulations consistent with current State regulations. For Chinook salmon, from April 1 to August 31, the bag limit would be one Chinook salmon per day including a total limit of one in possession of any size. From September 1 to March 31, the bag limit would be two Chinook salmon per day including a total limit of two in possession of any size. For coho (silver) salmon, sockeye salmon, pink salmon, and chum salmon there would be a combined six fish bag limit per day, including a total limit of six in possession of any size. However, only 3 per day, including a total limit of three in possession, may be coho salmon.

In addition to these proposed Federal limits, recreational anglers would also be constrained by State bag and possession limits if landing fish in Alaska. Because of this, an angler could not exceed State limits when landing fish in Alaska, or otherwise have both an EEZ limit and a State limit on board at the same time in either area.

Recreational fishing would be open for the entire calendar year. Because recreational anglers can release fish with limited mortality, NMFS could prohibit retention of individual salmon species while still allowing harvest of other salmon stocks if necessary. Inseason management actions for the recreational sector would be published in the Federal Register for effectiveness and subject to the same process and timing limitations outlined for the commercial sector in the Cook Inlet EEZ. Given the limited Cook Inlet EEZ recreational salmon harvest and slow pace of the fishery, these notice and publication requirements are expected to be less problematic for managing the recreational sector.

Recreational fishing for salmon in the Cook Inlet EEZ Area could only be done using hook and line gear with a single line per angler with a maximum of two hooks. Salmon harvested could not be filleted or otherwise mutilated in a way that could prevent determining how may fish had been retained prior to landing. Gills and guts could be removed from retained fish prior to landing. Any salmon that is not returned to the water with a minimum of injury would count toward an angler's bag limit.

There is little or no inseason catch information available for the recreational salmon sector in the Cook Inlet EEZ Area. However, Federal managers would review any available developing inseason information, including escapement data, and may prohibit retention of one or more salmon species if additional harvest could not be supported. This proposed rule would not establish a TAC specific to the recreational sector, but estimated removals in combination with commercial harvests would still be evaluated against the ABC and ACL to ensure they are not exceeded, and to implement accountability measures, if required, for future seasons. This is analogous to the process used to account for recreational harvests in Federal groundfish and halibut fisheries.

Information provided by the State's existing Saltwater Charter Logbook, the Statewide Harvest Survey, and creel surveys provide information to account for recreational harvest in the Cook Inlet EEZ Area, as well as satisfy the Magnuson-Stevens Act SBRM requirement. This is consistent with the measures established for recreational salmon fishing in the East Area.

If the recreational sector in the Cook Inlet EEZ Area significantly increases its harvests of salmon, additional management measures may be required and implemented through subsequent actions.

Consistency of Proposed Action With the National Standards

In developing Amendment 16 and this proposed rule, NMFS considered whether the proposed action is consistent with the Magnuson-Stevens Act's 10 National Standards (16 U.S.C. 1851) and designed this proposed action to balance their competing demands. While all of the National Standards were considered in Section 5.1 of the Analysis, five National Standards figured prominently in the NMFS's recommendation for Amendment 16 and this proposed rule: National Standard 1, National Standard 2, National Standard 3, National Standard 7, and National Standard 8.

National Standard 1

National Standard 1 states that conservation and management measures shall prevent overfishing while achieving, on a continuing basis, the OY from each fishery for the United States fishing industry. OY is the amount of fish that will provide the greatest overall benefit to the Nation, particularly with respect to food production and recreational opportunities and taking into account the protection of marine ecosystems, that is prescribed on the basis of the MSY from the fishery, as reduced by any relevant economic, social, or ecological factor. As described above, this action specifies MSY on the basis of escapement goals and proxies that were evaluated through the analytical process for this action and determined to be consistent with the goals and objectives of the Salmon FMP and the conservation objectives of the Magnuson-Stevens Act. The escapement goal values that inform OY will be regularly assessed and updated as new information becomes available.

For the Cook Inlet EEZ salmon fishery, as further discussed above, OY is prescribed on the basis of MSY in that it represents a range of total fishery removals in the EEZ that target harvesting as much of the EEZ potential yield in excess of escapement goals as possible for each stock without causing any stock to miss the lower bound of its escapement goal or result in overfishing. Because the Cook Inlet EEZ Area fishery is a mixed-stock fishery and involves harvest of co-occurring stocks of varying abundance, OY is based on a range of harvest levels that have provided for a viable fisheries and avoided overfishing over the long-term. This OY ensures the Cook Inlet salmon fishery produces the greatest net benefit to the Nation by maintaining an economically viable commercial fishery while still providing recreational and subsistence opportunities for people dependent on these same salmon stocks, accounting for consumption of salmon by a variety of marine predators, and protecting weaker stocks. NMFS finds that the proposed OY for the Cook Inlet salmon fishery would be achieved on a continuing basis under Amendment 16.

National Standard 2

National Standard 2 states that conservation and management measures shall be based upon the best scientific information available. Among other things, NMFS considered the relevance, inclusiveness, objectivity, transparency, timeliness, and peer review of available information when evaluating the available biological, ecological, environmental, economic, and sociological scientific information to determine how to most effectively conserve and manage Cook Inlet salmon. This process included SSC review of proposed fishery management policies and reference points, evaluation of uncertainty in the development of salmon escapement goals used to initially inform Federal reference points (Section 12 of the Analysis), a comprehensive description of social and economic conditions in the Cook Inlet salmon fishery (Section 4 of the Analysis), and consideration of alternative scientific points of view regarding the potential for overcompensation in Cook Inlet salmon stocks (Section 14 of the Analysis). From this analysis, NMFS determined that escapement goals established by the State currently rely on the best scientific information available to manage Cook Inlet salmon fisheries. It is on the basis of this information that Federal status determination criteria are initially established. Each year, NMFS will rely on the best scientific information available to assess the status of the stocks and calculate the status determination criteria—the best scientific information available is not static and may change with developments in data collection and processing. NMFS will collect data from the fisheries, routinely evaluate the best scientific information available, and may modify the escapement goals used in Federal management as scientific information related to Cook Inlet salmon stocks is improved. In addition, the SSC will provide objective, ongoing scientific advice to the Council regarding appropriate harvest specifications for the Cook Inlet EEZ Area based on information the SSC determines to meet the guidelines for the best scientific information available.

National Standard 3

Management of salmon in the Cook Inlet EEZ Area is highly complex, requiring consideration of other management jurisdictions in order to achieve sustainable harvest of Cook Inlet salmon stocks that benefits all user groups. National Standard 3 states that to the extent practicable, an individual stock of fish shall be managed as a unit throughout its range, and interrelated stocks of fish shall be managed as a unit or in close coordination. Given the significant degree of interaction among salmon fisheries in Cook Inlet, management of salmon stocks as a unit or in close coordination throughout all Cook Inlet salmon fisheries is particularly important. Management action in one Cook Inlet salmon fishery often has direct relationships with harvest rates and harvest composition (by stock) in other regional salmon fisheries. Federal management of the Cook Inlet EEZ Area under Amendment 16 achieves National Standard 3 objectives through coordination with the State before, during, and after each fishing season, as described in Harvest Specifications and Annual Processes. NMFS and the Council will evaluate both where harvest of salmon stocks may be constrained by the presence of weak stocks and where there may be opportunities to harvest additional salmon that would not otherwise be utilized. NMFS will provide data on early EEZ catches to the State to inform run-strength forecasts for management of all other upper Cook Inlet salmon fisheries. As stated above, because NMFS has no jurisdiction over State marine or fresh water salmon fisheries, it is impossible for NMFS to unilaterally manage Cook Inlet salmon as a unit throughout their range, and the State of Alaska declined to accept delegated management authority for the EEZ. Thus, two separate management jurisdictions are unavoidable in Cook Inlet. Still, under Amendment 16 NMFS anticipates close coordination with the State and Cook Inlet salmon stocks would be managed as a unit throughout their range to the extent practicable.

National Standard 7

National Standard 7 states that conservation and management measures shall, where practicable, minimize costs and avoid unnecessary duplication. Though some Federal management measures for the Cook Inlet EEZ Area may duplicate similar requirements in adjacent State waters, any such duplication is necessary to implement a new Federal management regime and incorporate the Cook Inlet EEZ Area into the Salmon FMP consistent with the applicable court decisions. Amendment 16 would include no unnecessary duplication of any State or Federal management measures. Further, the management measures proposed under Amendment 16 impose only those costs necessary to ensure accurate catch accounting and reporting. As explained in Cook Inlet EEZ Commercial Salmon Fishery Monitoring, Recordkeeping, and Reporting Requirements, the management infrastructure and resulting costs are required by NMFS for successful management of the fishery. Therefore Amendment 16 is consistent with National Standard 7.

National Standard 8

National Standard 8 requires that conservation and management measures shall, consistent with the conservation requirements of the Magnuson-Stevens Act, take into account the importance of fishery resources to fishing communities by utilizing economic and social data that are based upon the best scientific information available, in order to (a) provide for the sustained participation of such communities, and (b) to the extent practicable, minimize adverse economic impacts on such communities. This action is expected to result in Cook Inlet EEZ salmon harvests near existing levels. In some years, EEZ harvests may fall below the status quo (as a percentage of total Cook Inlet salmon harvest) to account for increased uncertainty. If EEZ harvests are reduced, additional salmon would be available for harvest in State waters by the drift gillnet fishery sector and all other salmon users. Therefore, any such reductions are not anticipated to result in community level impacts. Some adjustments to EEZ harvest totals are unavoidable as NMFS takes over a management of a new fishery, as NMFS will have less data, experience, and expertise than State managers upon implementation. However, by coordinating with State managers and carefully vetting stock assessments through the SSC, NMFS will be able to continue managing a viable commercial salmon fishery that minimizes adverse impacts on fishing communities to the extent practicable. Providing for the sustained participation of fishing communities by protecting the long-term health of the fishery depends on conserving stocks with low abundance and ensuring no stock becomes overfished, which could result in further restrictions on harvest in some years. The Analysis considered the social and economic importance of the Cook Inlet salmon fisheries to fishing communities, and recognized these communities participate in a variety of salmon fisheries apart from the drift gillnet fishery. In general, total removals of salmon in Cook Inlet are expected to remain consistent with the status quo—harvests will vary from year to year depending on run size and the abundance of any constraining stocks, but all participating fishing communities will continue to have the same access to fishery resources (as constrained by stock status). Community level distributive impacts under this action are not anticipated to substantially affect net benefits to the nation (Section 4.10 of the Analysis). Therefore, the Analysis supports a finding that this action would provide for the sustained participation of fishing communities in Cook Inlet salmon fisheries and minimize any adverse economic impacts to the extent practicable, consistent with National Standard 8.

Potential Impacts of the Action

The entire active salmon drift gillnet fleet likely fishes in the Cook Inlet EEZ Area at some time during each fishing season, but over the entire season, each vessel differs with respect to its level of economic dependency on fishing in this area. Section 4.7.1.4 of the Analysis describes that from 2009 through 2021 an estimated average of 46.9 percent of gross revenue ($13.9 million) for the drift gillnet fleet was generated from salmon caught in the Cook Inlet EEZ Area. In the last 5 years, an estimated average of approximately 41.3 percent of gross revenue ($7.3 million) was generated in the EEZ for the drift gillnet fishery. This action would likely allow drift gillnet fishery participants to continue a significant portion of their EEZ fishing activities. Some reduction in EEZ harvest may occur to account for the uncertainty inherent in creating a new management jurisdiction and establishing pre-season catch limits consistent with Magnuson-Stevens Act requirements, but drift gillnet vessels may also have the opportunity to increase harvests within State waters. This action would also impose some additional costs on fishery participants (such as installing and operating VMS) and involves additional recordkeeping, reporting, and permit requirements compared to the status quo (though at no additional cost beyond the labor needed to comply).

This rule will largely preserve existing EEZ fishing opportunities in terms of time and location, and may result in additional openers compared to the status quo in years with strong runs and a high TAC. Vessels will be able to continue fishing in the same EEZ areas they have historically fished so long as they comply with new Federal permitting, recordkeeping, and reporting requirements in the EEZ. While the uncertainty associated with a new management jurisdiction will require conservative management as NMFS builds expertise and collects data, the goal of this rule is to preserve or facilitate as much fishing opportunity in the EEZ as possible without causing overfishing and creating adverse impacts on stocks of low abundance or any other part of the ecosystem. This action would not directly modify management of salmon fishing in State waters. The drift gillnet fleet is expected to continue to operate in State waters under Amendment 16. Though EEZ harvest levels are expected to remain close to historic averages, the State, in its discretion, could modify management measures in State waters to account for any changes to EEZ harvest levels. In all, total harvests throughout Cook Inlet are expected to remain close to the status quo. As described in Section 3.1.3 of the Analysis, total harvest of Cook Inlet salmon stocks is expected to remain near existing levels resulting in salmon escapements near existing levels. NMFS finds these harvest levels have consistently prevented overfishing and ensured the majority of stocks in Cook Inlet meet their escapement goals, thus ensuring sustainable salmon stocks for future generations. This action is not expected to have significant impacts on salmon stocks or other affected parts of the environment.

This action would also directly regulate salmon processors and buyers. It would impose additional monitoring, recordkeeping, and reporting burden on processors receiving deliveries from the Cook Inlet EEZ. To the extent that this action results in slight decreases in catch by the drift gillnet fleet in the Cook Inlet EEZ that are not offset by increased catch in State waters by the drift gillnet fleet or by other commercial salmon fishing sectors, deliveries of Cook Inlet salmon and associated revenues to processors could be reduced. The impacts to individual processors would be influenced by the dependency on Cook Inlet salmon harvested in the EEZ as described in Section 4.5.1.4 of the Analysis. Because minimal reductions in harvest are anticipated, no significant impacts on processors are expected under this proposed rule compared to the status quo.

While no significant impacts on Cook Inlet salmon stocks are expected, any reductions of salmon harvest in the Cook Inlet EEZ Area could improve the density of salmon prey available to endangered Cook Inlet belugas present in northern Cook Inlet during the summer months as noted in Section 3.3.1.1 of the Analysis. As noted above, NMFS is undertaking consultation pursuant to section 7 of the ESA regarding this proposed action. While increased escapement may not be desirable for all stocks in all years, conservative management of commercial harvest in the Cook Inlet EEZ Area will prevent overfishing and would be expected to allow utilization to be maximized over the long term as management measures are developed and refined.

Classification

The NMFS Assistant Administrator has determined that this action is consistent with the Salmon FMP, other provisions of the Magnuson-Stevens Act, and other applicable law, subject to further consideration after public comment.

This proposed rule has been determined to be not significant for the purposes of Executive Order 12866.

A Regulatory Impact Review was prepared to assess costs and benefits of available regulatory alternatives. A copy of this analysis is available from NMFS (see ADDRESSES). NMFS proposes Amendment 16 and these regulations based on those measures that maximize net benefits to the Nation when considering the viable management alternatives. Specific aspects of the economic analysis are discussed below in the Initial Regulatory Flexibility Analysis section.

Initial Regulatory Flexibility Analysis

This Initial Regulatory Flexibility Analysis (IRFA) was prepared for this action, as required by Section 603 of the Regulatory Flexibility Act (RFA) (5 U.S.C. 603), to describe the economic impact this action, if adopted, would have on small entities. The IRFA describes the action; the reasons why this action is proposed; the objectives and legal basis for this action; the number and description of directly regulated small entities to which this action would apply; the recordkeeping, reporting, and other compliance requirements of this action; and the relevant Federal rules that may duplicate, overlap, or conflict with this action. The IRFA also describes significant alternatives to this action that would accomplish the stated objectives of the Magnuson-Stevens Act, and any other applicable statutes, and that would minimize any significant economic impact of this action on small entities. The description of the action, its purpose, and the legal basis are explained in the preamble and are not repeated here.

For RFA purposes only, NMFS has established small business size standards for businesses, including their affiliates, whose primary industries are commercial fishing, charter fishing, seafood processing, and seafood buying (see 50 CFR 200.2). A business primarily engaged in commercial fishing (NAICS code 11411) is classified as a small business if it is independently owned and operated, is not dominant in its field of operation (including its affiliates), and has combined annual receipts not in excess of $11 million for all its affiliated operations worldwide. For charter fishing vessels (NAICS code 713990), this threshold is combined annual receipts not in excess of $9 million. For shoreside processors (NAICS code 311710), the small business size is defined in terms of number of employees, with the threshold set at not greater than 750 employees. For entities that purchase seafood but do not process it (NAICS code 424460), the small business threshold is not greater than 100 employees.

Number and Description of Small Entities Regulated by This Action

This action would directly regulate holders of State of Alaska S03H CFEC Limited Entry salmon permits (S03H permits) fishing in the Cook Inlet EEZ Area, charter guides and charter businesses fishing for salmon in the Cook Inlet EEZ Area, and entities receiving deliveries of salmon harvested in the Cook Inlet EEZ Area. From 2019 to 2021, there was an average of 567 S03H permits in circulation, with an average of 361 active permit holders, all of which are considered small entities based on the $11 million threshold. From 2019 to 2021, there was an average of 11 shoreside processors and 6 direct marketers, all of which are considered small entities based on the 750 employee threshold. From 2019 to 2021, there was an average of 4 catcher-sellers, all of which are considered small entities based on the 100 employee threshold. From 2019 to 2021, there was an average of 58 charter guides that fished for salmon at least once in the Cook Inlet EEZ Area, all of which are considered small entities based on the $9 million threshold. Additional detail is included in Sections 4.5 and 4.9 in the Analysis prepared for this action (see ADDRESSES).

Description of Significant Alternatives That Minimize Adverse Impacts on Small Entities

NMFS considered, but did not select three other alternatives. The alternatives, and their impacts to small entities, are described below.

Alternative 1 would take no action and would maintain existing management measures and conditions in the fishery within recently observed ranges, resulting in no change to impacts on small entities. This is not a viable alternative because it would be inconsistent with the Ninth Circuit's ruling that the Cook Inlet EEZ must be included within the Salmon FMP and managed according to the Magnuson-Stevens Act.

Alternative 2 would delegate management to the State. If fully implemented, Alternative 2 would maintain many existing conditions within the fishery. Fishery participants would have the added burdens of obtaining a Salmon Federal Fisheries Permit, maintaining a Federal fishing logbook, and monitoring their fishing position with respect to EEZ and State waters as described in Sections 2.4.8 and 4.7.2.2 of the Analysis. However, section 306(a)(3)(B) of the Magnuson-Stevens Act provides that NMFS cannot delegate management to the State without a three-quarter majority vote by the Council, which did not occur. Therefore, Alternative 2 cannot be implemented and is not a viable alternative.

Alternative 4 would close the Cook Inlet EEZ but not impose any additional direct regulatory costs on participants and would allow directly regulated entities to possibly recoup lost EEZ harvest inside State waters. However, the District Court ruled that Alternative 4 was contrary to law. Therefore, Alternative 4 is not a viable alternative.

This action (Alternative 3) would result in a Cook Inlet EEZ drift gillnet salmon fishery managed directly by NMFS and the Council. Alternative 3 would increase direct costs and burdens to S03H permit holders due to requirements including obtaining a SFFP, installing and operating a VMS, and maintaining a Federal logbook as described in Sections 2.5.6 and 4.7.2.2 of the Analysis. This action would also require that TACs be set before each fishing season. The TAC would likely be set conservatively to reduce the risk of overfishing without the benefit of inseason harvest data, but is likely to remain near existing levels. As is possible under the status quo, salmon harvest in the EEZ could be reduced or prohibited in years when a harvestable surplus is not certain, with an appropriate buffer to account for scientific and management uncertainty.

Processors receiving deliveries of salmon commercially harvested in the Cook Inlet EEZ Area would be required to obtain a SFPP. Entities receiving deliveries of salmon commercially harvested in the Cook Inlet EEZ but not processing the fish would be required to have a RSRP. All of these permits would be available at no cost from NMFS. However, entities with these permits would be required to use eLandings with its associated requirements and report landings with all associated information by noon of the day following the completion of each delivery, which would increase direct costs and burden.

While these measures do increase costs to commercial fishery participants, all of these elements are required by NMFS to manage the fishery and prevent overfishing. Specific consideration was given in their development to minimize burden to the extent practicable while also providing required information to Federal fishery managers in a timely manner. All entities that would be directly regulated by this action could also choose to continue participating in only the State waters fisheries to avoid being subject to these Federal requirements.

Charter fishing vessels would not have any additional Federal recordkeeping, reporting, or monitoring requirements, but would be subject to Federal bag, possession, and gear regulations. These proposed measures would be the same as existing State requirements and not add additional burdens.

Based upon the best available scientific data, it appears that there are no significant alternatives to the action that have the potential to comply with applicable court rulings, accomplish the stated objectives of the Magnuson-Stevens Act and any other statutes, and minimize any significant adverse economic impact of the action on small entities while preventing overfishing. After public process, NMFS concluded that of the viable alternatives, Alternative 3, the proposed Amendment 16, would best accomplish the stated objectives articulated in the preamble for this action, and in applicable statutes, and would minimize to the extent practicable adverse economic impacts on the universe of directly regulated small entities.

Duplicate, Overlapping, or Conflicting Federal Rules

NMFS has not identified any duplication, overlap, or conflict between this action and existing Federal rules.

Recordkeeping, Reporting, and Other Compliance Requirements

This action would implement new recordkeeping, reporting, and compliance requirements. These requirements are necessary for the management and monitoring of the Cook Inlet EEZ Area salmon fisheries.

All Cook Inlet EEZ Area commercial salmon fishery participants would be required to provide additional information to NMFS for management purposes. As in other North Pacific fisheries, processors would provide catch recording data to managers to monitor harvest. Processors would be required to record deliveries and processing activities to aid in fishery administration.

To participate in the fishery, persons are required to complete application forms, reporting requirements, and monitoring requirements. These requirements impose costs on small entities in gathering the required information and completing the information collections.

NMFS has estimated the costs of complying with the requirements based on information such as the burden hours per response, number of responses per year, and wage rate estimates from industry or the Bureau of Labor Statistics. Persons are required to complete many of the requirements prior to fishing, such as obtaining permits. Persons are required to complete some requirements every year, such as the SFPP and RSRP applications. Other requirements are more periodic, such as the SFFP which is applied for every 3 years. The impacts of these changes are described in more detail in Sections 2.5.6 and 4.7.2 of the Analysis prepared for this action (see ADDRESSES).

Vessels commercially fishing for salmon in the Cook Inlet EEZ area would be required to obtain a SFFP, complete a Federal fishing logbook, and install and maintain an operational VMS. The vessel would also be required to mark buoys at each end of their drift gillnet with their SFFP number. While commercially fishing for salmon in the Cook Inlet EEZ Area, participants must remain within Federal waters and cannot also fish in State waters on the same calendar day or conduct any other types of fishing while in Federal waters.

Processors and other entities receiving landings of commercially caught Cook Inlet salmon from the Cook Inlet EEZ Area would be required to obtain a SFPP, a RSRP, and report landings through eLandings by noon of the day following completion of the delivery. NMFS would issue SFPPs and RSRPs at no cost.

For recreational salmon fishing, no additional Federal recordkeeping and reporting requirements are established. The existing recordkeeping and reporting requirements implemented by the State are expected to be sufficient to inform management and satisfy Magnuson-Stevens Act requirements given the small scale and limited removals of the recreational sector. These include creel sampling, the ADF&G's Statewide Harvest Survey, harvest records for annual limits, and the Saltwater Guide Logbooks.

Paperwork Reduction Act

This action contains collection of information requirements subject to review and approval by the Office of Management and Budget (OMB) under the Paperwork Reduction Act (PRA). This action would add a new collection of information for the Cook Inlet EEZ salmon fishery under a new OMB control number and revise and extend for 3 years existing collection-of-information requirements for OMB Control Number 0648-0445 (NMFS Alaska Region VMS Program). The public reporting burden estimates provided below for these collections of information include the time for reviewing instructions, searching existing data sources, gathering and maintaining the data needed, and completing and reviewing the collection of information.

OMB Control Number 0648-NEW

A new collection of information would be created for reporting, recordkeeping, and monitoring requirements implemented by this action that are necessary to federally manage the Cook Inlet EEZ salmon fishery. This new collection would contain the applications and processes used by harvesters, processors, and other entities receiving deliveries of Cook Inlet EEZ salmon to apply for and manage their permits; provide catch, landings, and processing data; and mark drift gillnet buoys. The data would be used to ensure that the fishery participants adhere to harvesting, processing, and other requirements for the Cook Inlet EEZ salmon fishery.

The public reporting burden per individual response is estimated to average 15 minutes for the SFFP application, 25 minutes for the SFPP application, 20 minutes for the RSRP application, 15 minutes to register for eLandings, 10 minutes for landing reports, 15 minutes for the daily fishing logbook, and 30 minutes to mark drift gillnet buoys.

OMB Control Number 0648-0445

NMFS proposes to revise and extend by 3 years the existing requirements for OMB Control Number 0648-0445. This collection contains the VMS requirements for the federally managed groundfish and crab fisheries off Alaska. This collection would be revised because this action would require vessels commercially fishing for salmon in the Cook Inlet EEZ Area to install and maintain an operational VMS. The public reporting burden per individual response is estimated to average 6 hours for installation of a VMS unit, 4 hours for VMS maintenance, and 2 hours for VMS failure troubleshooting. VMS transmissions are not assigned a reporting burden because the transmissions are automatic.

Public Comment

Public comment is sought regarding: whether this proposed collection of information is necessary for the proper performance of the functions of the agency, including whether the information shall have practical utility; the accuracy of the burden estimate; ways to enhance the quality, utility, and clarity of the information to be collected; and ways to minimize the burden of the collection of information, including through the use of automated collection techniques or other forms of information technology. Submit comments on these or any other aspects of the collection of information at https://www.reginfo.gov/public/do/PRAMain.

Notwithstanding any other provisions of the law, no person is required to respond or, nor shall any person by subject to a penalty for failure to comply with, a collection of information subject to the requirements of the PRA, unless that collection of information displays a currently valid OMB Control Number.

List of Subjects

50 CFR Part 600

Administrative practice and procedure, Confidential business information, Fish, Fisheries, Fishing, Fishing vessels, Foreign relations, Intergovernmental relations, Penalties, Reporting and recordkeeping requirements, Statistics.

50 CFR Part 679

Alaska, Fisheries, Reporting and recordkeeping requirements.

Dated: October 10, 2023.
Samuel D. Rauch, III,
Deputy Assistant Administrator for Regulatory Programs, National Marine Fisheries Service.

For the reasons set out in the preamble, NMFS proposes to amend 50 CFR parts 600 and 679 as follows:

TITLE 50—WILDLIFE AND FISHERIES

PART 600—MAGNUSON-STEVENS ACT PROVISIONS

1. The authority citation for part 600 continues to read as follows:

Authority: 5 U.S.C. 561 and 16 U.S.C. 1801 et seq.

2. Amend § 600.725, in the table in paragraph (v), under the heading “VII. North Pacific Fishery Management Council” by revising entry “8” to read as follows:

§ 600.725 General prohibitions.

* * * * *

(v) * * *

VII—North Pacific Fishery Management Council
* * * * * * *
8. Alaska Salmon Fishery (FMP):
A. East Area | A. Hook and line.
B. Cook Inlet EEZ Area | B. Drift gillnet, handline, rod and reel, hook and line.
* * * * * * *

PART 679—FISHERIES OF THE EXCLUSIVE ECONOMIC ZONE OFF ALASKA

3. The authority citation for part 679 continues to read as follows:

Authority: 16 U.S.C. 773 et seq.; 1801 et seq., 3631 et seq.; Pub. L. 108-447; Pub. L. 111-281.

4. Amend § 679.1 by revising paragraph (i)(1) to read as follows:

§ 679.1 Purpose and scope.

* * * * *

(i) * * *

(1) Regulations in this part govern commercial fishing for salmon by fishing vessels of the United States in the West Area and commercial and recreational fishing for salmon in the Cook Inlet EEZ Area of the Salmon Management Area.

* * * * *

5. Amend § 679.2 by:

a. Adding in alphabetical order the definition for “Daily bag limit”;

b. Revising the definition of “Federally permitted vessel”;

c. Adding paragraph (7) to the definition of “Fishing trip”;

d. Adding in alphabetical order definitions for “Possession limit” and “Registered Salmon Receiver”;

e. Revising the definition of “Salmon Management Area”; and

f. Adding in alphabetical order the definition for “Salmon shoreside processor”.

The additions and revision reads as follows:

§ 679.2 Definitions.

* * * * *

Daily bag limit means the maximum number of salmon a person may retain in any calendar day from the Cook Inlet EEZ Area.

* * * * *

Federally permitted vessel means a vessel that is named on a Federal fisheries permit issued pursuant to § 679.4(b), a Salmon Federal Fisheries Permit issued pursuant to § 679.114(b), or a Federal crab vessel permit issued pursuant to § 680.4(k) of this chapter. Federally permitted vessels must conform to regulatory requirements for purposes of fishing restrictions in habitat conservation areas, habitat conservation zones, habitat protection areas, and the Modified Gear Trawl Zone; for purposes of anchoring prohibitions in habitat protection areas; for purposes of requirements for the BS and GOA nonpelagic trawl fishery pursuant to § 679.7(b)(9), § 679.7(c)(5), and § 679.24(f); and for purposes of VMS requirements.

* * * * *

Fishing trip means:

* * * * *

(7) For purposes of subpart J of this part, the period beginning when a vessel operator commences commercial fishing for any salmon species in the Cook Inlet EEZ Area and ending when the vessel operator offloads or transfers any unprocessed salmon species from that vessel.

* * * * *

Possession limit means the maximum number of unprocessed salmon a person may possess.

* * * * *

Registered Salmon Receiver means a person holding a Registered Salmon Receiver Permit issued by NMFS.

* * * * *

Salmon Management Area means those waters of the EEZ off Alaska (see Figure 22 and Figure 23 to part 679) under the authority of the Salmon FMP. The Salmon Management Area is divided into three areas: the East Area, the West Area, and the Cook Inlet EEZ Area:

(1) The East Area means the area of the EEZ in the Gulf of Alaska east of the longitude of Cape Suckling (143°53.6′ W).

(2) The West Area means the area of the EEZ off Alaska in the Bering Sea, Chukchi Sea, Beaufort Sea, and the Gulf of Alaska west of the longitude of Cape Suckling (143°53.6′ W), but excludes the Cook Inlet EEZ Area, Prince William Sound Area, and the Alaska Peninsula Area. The Prince William Sound Area and the Alaska Peninsula Area are shown in Figure 23 to this part and described as:

(i) the Prince William Sound Area means the EEZ shoreward of a line that starts at 60°16.8′ N and 146°15.24′ W and extends southeast to 59°42.66′ N and 144°36.20′ W and a line that starts at 59°43.28′ N and 144°31.50′ W and extends northeast to 59°56.4′ N and 143°53.6′ W.

(ii) the Alaska Peninsula Area means the EEZ shoreward of a line at 54°22.5′ N from 164°27.1′ W to 163°1.2′ W and a line at 162°24.05′ W from 54°30.1′ N to 54°27.75′ N.

(3) The Cook Inlet EEZ Area, shown in Figure 22 to this part, means the EEZ of Cook Inlet north of a line at 59°46.15′ N.

* * * * *

Salmon shoreside processor means any person or vessel that receives, purchases, or arranges to purchase, and processes unprocessed salmon harvested in the Cook Inlet EEZ Area, except a Registered Salmon Receiver.

* * * * *

6. Amend § 679.3 by revising paragraph (f) to read as follows:

§ 679.3 Relation to other laws.

* * * * *

(f) Domestic fishing for salmon. Management of the salmon commercial troll fishery and recreational fishery in the East Area of the Salmon Management Area, defined at § 679.2, is delegated to the State of Alaska. Regulations governing the commercial drift gillnet salmon fishery and recreational salmon fishery in the Cook Inlet EEZ Area, defined at § 679.2, are set forth in subpart J of this Section.

* * * * *

§ 679.7 Prohibitions [Amended]

7. Amend § 679.7 by removing and reserving paragraph (h).

8. Amend § 679.25 by

a. Revising paragraph (a)(1) introductory text;

b. Adding paragraphs (a)(1)(vi), (a)(2)(vi) and (vii); and

c. Revising paragraph (b) introductory text, (b)(3), and (b)(8).

The additions and revisions read as follows:

§ 679.25 Inseason adjustments.

(a) * * *

(1) Types of adjustments. Inseason adjustments for directed fishing for groundfish, fishing for IFQ or CDQ halibut, or fishing for Cook Inlet EEZ Area salmon issued by NMFS under this section include:

* * * * *

(vi) Adjustment of TAC for any salmon species or stock and closure or opening of a season in all or part of the Cook Inlet EEZ Area.

(2) * * *

(vi) Any inseason adjustment taken under paragraph (a)(1)(vi) of this section must be based on a determination that such adjustments are necessary to prevent:

(A) Overfishing of any species or stock of fish or shellfish;

(B) Harvest of a TAC for any salmon species or stock that, on the basis of the best available scientific information, is found by NMFS to be incorrectly specified; or

(C) Underharvest of a TAC for any salmon species or stock when catch information indicates that the TAC has not been reached, and there is not a conservation or management concern for any species or stock that would also be harvested with additional fishing effort.

(vii) The selection of the appropriate inseason management adjustments under paragraphs (a)(1)(vi) of this section must be from the following authorized management measures and must be based on a determination by the Regional Administrator that the management adjustment selected is the least restrictive necessary to achieve the purpose of the adjustment:

(A) Closure of a management area or portion thereof, or gear type, or season to all salmon fishing; or

(B) Reopening of a management area or season to achieve the TAC for any of the salmon species or stock without exceeding the TAC of any other salmon species or stock.

(viii) The adjustment of a TAC for any salmon species or stock under paragraph (a)(1)(vi) of this section must be based upon a determination by the Regional Administrator that the adjustment is based upon the best scientific information available concerning the biological stock status of the species in question and that the currently specified TAC is incorrect. Any adjustment to a TAC must be reasonably related to the change in biological stock status.

(b) Data. Information relevant to one or more of the following factors may be considered in making the determinations required under paragraphs (a)(2)(i), (ii), (vi) and (vii) of this section:

* * * * *

(3) Relative distribution and abundance of stocks of groundfish species, salmon species or stocks, and prohibited species within all or part of a statistical area;

* * * * *

(8) Any other factor relevant to the conservation and management of groundfish species, salmon species or stocks, or any incidentally caught species that are designated as prohibited species or for which a PSC limit has been specified.

* * * * *

9. Amend § 679.28 by adding paragraph (f)(6)(x) to read as follows:

§ 679.28 Equipment and operational requirements

* * * * *

(f) * * *

(6) * * *

(x) You operate a vessel named, or required to be named, on an SFFP issued under § 679.114 in the waters of Cook Inlet and have drift gillnet gear on board.

* * * * *

10. Add subpart J, consisting of §§ 679.110 through 679.119, to read as follows:

Subpart J—Salmon Fishery Management
Sec.
679.110 Applicability.
679.111 [Reserved]
679.112 [Reserved]
679.113 [Reserved]
679.114 Permits.
679.115 Recordkeeping and Reporting.
679.116 [Reserved]
679.117 Salmon Fisheries Prohibitions.
679.118 Management Measures.
679.119 Recreational Salmon Fisheries.

Subpart J—Salmon Fishery Management

§ 679.110 Applicability.

This subpart contains regulations governing the commercial and recreational harvest of salmon in the Salmon Management Area (See § 679.2).

§ 679.111 [Reserved]

§ 679.112 [Reserved]

§ 679.113 [Reserved]

§ 679.114 Permits.

(a) Requirements—

(1) What permits are available? The following table describes the permits available under this subpart that authorize the retention, processing, and receipt of salmon in the Cook Inlet EEZ Area, respectively, along with date of effectiveness for each permit and reference paragraphs for further information:

If permit type is: | Permit is in effect from issue date through the end of: | For more information, see . . .
(i) Salmon Federal Fisheries Permit (SFFP) | 3 years or until expiration date shown on permit | Paragraph (b) of this section.
(ii) Salmon Federal Processor Permit (SFPP) | Until expiration date shown on permit | Paragraph (c) of this section.
(iii) Registered Salmon Receiver Permit (RSRP) | 1 year | Paragraph (d) of this section.

(2) Permit and logbook required by participant and fishery. For the various types of permits issued pursuant to this subpart, refer to § 679.115 for recordkeeping and reporting requirements.

(3) Permit application.

(i) A person may obtain an application for a new permit, or for renewal or revision of an existing permit, from NMFS for any of the permits under this section and must submit forms to NMFS as instructed in application instructions. All permit applications may be completed online and printed from the NMFS Alaska Region website (See § 679.2);

(ii) Upon receipt of an incomplete or improperly completed permit application, NMFS will notify the applicant of the deficiency in the permit application. If the applicant fails to correct the deficiency, the permit will not be issued. NMFS will not approve a permit application that is untimely or incomplete;

(iii) The owner or authorized representative of a vessel, owner or authorized representative of a processor, and Registered Salmon Receiver must obtain a separate permit for each vessel, entity, operation, or facility, as appropriate to each Federal permit in this section;

(iv) All permits are issued free of charge;

(v) NMFS will consider objective written evidence in determining whether an application is timely. The responsibility remains with the sender to provide objective written evidence of when an application to obtain, amend, or to surrender a permit was received by NMFS (e.g., certified mail or other method that provides written evidence that NMFS Alaska Region received it); and

(vi) For applications delivered by hand delivery or carrier, the date the application was received by NMFS is the date NMFS staff signs for it upon receipt. If the application is submitted by fax or mail, the receiving date of the application is the date stamped received by NMFS.

(4) Disclosure. NMFS will maintain a list of permit holders that may be disclosed for public inspection.

(5) Sanctions and denials. Procedures governing permit sanctions and permit denials for enforcement purposes are found at subpart D of 15 CFR part 904. Such procedures are not required for any other purposes under this part.

(6) Harvesting privilege. Permits issued pursuant to this subpart, are neither a right to the resource nor any interest that is subject to the “Takings Clause” provision of the Fifth Amendment to the U.S. Constitution. Rather, such permits represent only a harvesting privilege that may be revoked or amended subject to the requirements of the Magnuson-Stevens Act and other applicable law.

(7) Permit surrender.

(i) NMFS will recognize the voluntary surrender of a permit issued under this subpart, if a permit is authorized to be surrendered and if an application is submitted by the permit holder or authorized representative and approved by NMFS; and

(ii) For surrender of an SFFP and SFPP, refer to paragraphs (b)(3)(ii) and (c)(3)(ii) of this section, respectively.

(b) Salmon Federal Fisheries Permit (SFFP)—

(1) Requirements.

(i) No vessel of the United States may be used to commercially fish for salmon in the Cook Inlet EEZ Area unless the owner or authorized representative first obtains an SFFP for the vessel issued under this part. Only persons who are U.S. citizens are authorized to obtain an SFFP; and

(ii) Each vessel used to commercially fish for salmon within the Cook Inlet EEZ Area must have a legible copy of a valid SFFP on board at all times. The vessel operator must present the valid SFFP for inspection upon the request of any authorized officer.

(2) Vessel operation. An SFFP authorizes a vessel to conduct operations in the Cook Inlet EEZ Area.

(3) Duration.

(i) Length of permit effectiveness. NMFS issues SFFPs on a three-year cycle, and an SFFP is in effect from the effective date through the expiration date, as indicated on the SFFP, unless the SFFP is revoked, suspended, or modified under § 600.735 or § 600.740 of this chapter, or surrendered in accordance with paragraph (a)(7) of this section.

(ii) Surrendered permit.

(A) An SFFP may be voluntarily surrendered in accordance with paragraph (a)(7) of this section. NMFS will not reissue a surrendered SFFP to the owner or authorized representative of a vessel named on an SFFP until after the expiration date of the surrendered SFFP as initially issued.

(B) An owner or authorized representative who applied for and received an SFFP must notify NMFS of the intention to surrender the SFFP by submitting an SFFP application found at the NMFS Alaska Region website and indicating on the application that surrender of the permit is requested. Upon receipt and approval of an SFFP surrender application, NMFS will withdraw the SFFP from active status.

(4) Amended permit. An owner or authorized representative who applied for and received an SFFP must notify NMFS of any change in the permit information by submitting an SFFP application found at the NMFS Alaska Region website. The owner or authorized representative must submit the application form as instructed on the form. Except as provided under paragraph (b)(3)(ii)(B) of this section, upon receipt and approval of an application form for permit amendment, NMFS will issue an amended SFFP.

(5) SFFP application. To obtain, amend, renew, or surrender an SFFP, the vessel owner or authorized representative must complete an SFFP application form per the instructions from the NMFS Alaska Region website. The owner or authorized representative of the vessel must sign and date the application form, certifying that all information is true, correct, and complete to the best of their knowledge and belief. If the application form is completed by an authorized representative, proof of authorization must accompany the application form.

(6) Issuance.

(i) Except as provided in subpart D of 15 CFR part 904, upon receipt and approval of a properly completed permit application, NMFS will issue an SFFP required by this section (§ 679.114(b)).

(ii) NMFS will send an SFFP with the appropriate logbooks to the owner or authorized representative, as provided under § 679.115.

(7) Transfer. An SFFP issued under this this section (§ 679.114(b)) is not transferable or assignable and is valid only for the vessel for which it is issued.

(c) Salmon Federal Processor Permit (SFPP)—

(1) Requirements. No salmon shoreside processor, as defined at § 679.2, may process salmon harvested in the Cook Inlet EEZ Area, unless the owner or authorized representative first obtains an SFPP issued under this subpart. A salmon shoreside processor may not be operated in a category other than as specified on the SFPP. A legible copy of a valid SFPP must be on site at the salmon shoreside processor at all times and must be presented for inspection upon the request of any authorized officer.

(2) SFPP application. To obtain, amend, renew, or surrender an SFPP, the owner or authorized representative of the salmon shoreside processor must complete an SFPP application form per the instructions from the NMFS Alaska Region website. The owner or authorized representative of the salmon shoreside processor must sign and date the application form, certifying that all information is true, correct, and complete to the best of their knowledge and belief. If the application form is completed by an authorized representative, proof of authorization must accompany the application form.

(3) Issuance. Except as provided in subpart D of 15 CFR part 904, upon receipt and approval of a properly completed permit application, NMFS will issue an SFFP required by this section (§ 679.114(c)).

(4) Duration—

(i) Length of effectiveness. An SFPP is in effect from the effective date through the date of permit expiration, unless it is revoked, suspended, or modified under § 600.735 or § 600.740 of this chapter, or surrendered in accordance with paragraph (a)(7) of this section.

(ii) Surrendered permit.

(A) An SFPP may be voluntarily surrendered in accordance with paragraph (a)(7) of this section. NMFS may reissue an SFPP to the person to whom the SFPP was initially issued in the same fishing year in which it was surrendered.

(B) An owner or authorized representative who applied for and received an SFPP must notify NMFS of the intention to surrender the SFPP by submitting an SFPP surrender application form found at the NMFS Alaska Region website and indicating on the application form that surrender of the SFPP is requested. Upon receipt and approval of an SFPP surrender application form, NMFS will withdraw the SFPP from active status.

(5) Amended permit. An owner or authorized representative who applied for and received an SFPP must notify NMFS of any change in the permit information by submitting an SFPP amendment application form found at the NMFS Alaska Region website. The owner or authorized representative must submit the application form as instructed on the form. Upon receipt and approval of an SFPP amendment application form, NMFS will issue an amended SFPP.

(6) Transfer. An SFPP issued under this paragraph (c) is not transferable or assignable and is valid only for the salmon shoreside processor for which it is issued.

(d) Registered Salmon Receiver Permit (RSRP)—

(1) Requirements. An RSRP authorizes the person identified on the permit to receive a landing of salmon from an SFFP holder at any time during the fishing year for which it is issued until the RSRP expires, as indicated on the RSRP, or is revoked, suspended, or modified under § 600.735 or § 600.740 of this chapter, or surrendered in accordance with paragraph (a)(7) of this section. An RSRP is required for any person, other than an SFPP holder, to receive salmon commercially harvested in the Cook Inlet EEZ Area from the person(s) who harvested the fish. A legible copy of the RSRP must be present at the time and location of a landing. The RSRP holder or their authorized representative must make the RSRP available for inspection upon the request of any authorized officer.

(2) Application. To obtain, renew, or surrender an RSRP, the owner or authorized representative must complete an RSRP application form per the instructions from the NMFS Alaska Region website. The owner or authorized representative of a Registered Salmon Receiver must sign and date the application form, certifying that all information is true, correct, and complete to the best of their knowledge and belief. If the application form is completed by an authorized representative, proof of authorization must accompany the application form.

(3) Issuance. Except as provided in subpart D of 15 CFR part 904, upon receipt and approval of a properly completed permit application, NMFS will issue an SFFP required by this section (§ 679.114(d)).

(4) Duration. An RSRP is issued on an annual cycle defined as May through the end of April of the next calendar year, to persons who submit a Registered Salmon Receiver Permit application that NMFS approves.

(i) An RSRP is in effect from the first day of May in the year for which it is issued or from the date of issuance, whichever is later, through the end of the current annual cycle, unless it is revoked, suspended, or modified under § 600.735 or § 600.740 of this chapter, or surrendered in accordance with paragraph (a)(7) of this section.

(ii) An RSRP may be voluntarily surrendered in accordance with paragraph (a)(7) of this section. An RSRP may be reissued to the permit holder of record in the same fishing year in which it was surrendered.

(5) Amended permit. An owner or authorized representative who applied for and received an RSRP must notify NMFS of any change in the permit information by submitting an RSRP application form found at the NMFS Alaska Region website. The owner or authorized representative must submit the application form as instructed on the form. Upon receipt and approval of an RSRP amendment application form, NMFS will issue an amended RSRP.

§ 679.115 Recordkeeping and Reporting.

(a) General Recordkeeping and Reporting (R&R) requirement—R&R requirements include, but are not limited to, paper and electronic documentation, logbooks, forms, reports, and receipts.

(1) Salmon logbooks and forms.

(i) The Regional Administrator will prescribe and provide logbooks required under this section. All forms required under this section are available from the NMFS Alaska Region website or may be requested by calling the Sustainable Fisheries Division at 907-586-7228. These forms may be completed online, or submitted according to the instructions shown on the form.

(ii) The operator must use the current edition of the logbooks and current format of the forms, unless they obtain prior written approval from NMFS to use logbooks from the previous year. Upon approval from NMFS, electronic versions of the forms may be used.

(iii) Commercial salmon harvest that occurred in the Cook Inlet EEZ Area must be recorded in eLandings by an SFPP or RSRP holder. See paragraph (b) of this section for more information.

(2) Responsibility. (i) The operator of a vessel, the manager of a salmon shoreside processor (hereafter referred to as the manager), and a Registered Salmon Receiver are responsible for complying with applicable R&R requirements in this section.

(ii) The owner of a vessel, the owner of a salmon shoreside processor, and the owner of a Registered Salmon Receiver are responsible for ensuring their employees and agents comply with applicable R&R requirements in this section.

(3) Fish to be recorded and reported. The operator of a vessel or manager must record and report the following information (see paragraphs (a)(3)(i) through (iv) of this section) for all salmon, groundfish (see Table 2a to this part), halibut and crab, forage fish (see Table 2c to this part), and sculpins (see Table 2c to this part). The operator of a vessel or manager may record and report the following information (see paragraphs (a)(3)(i) through (iv) of this section) for other species (see Table 2d to this part):

(i) Harvest information from vessels;

(ii) Receipt information from vessels, buying stations, and tender vessels, including fish received from vessels not required to have an SFFP or FFP, and fish received under contract for handling or processing for another processor;

(iii) Discard or disposition information, including fish reported but not delivered to the operator or manager (e.g., fish used on board a vessel, retained for personal use, discarded at sea), when receiving catch from a vessel, buying station, or tender vessel; and

(iv) Transfer information, including fish transferred off the vessel or out of the facility.

(4) Inspection and retention of records—

(i) Inspection of records. The operator of a vessel, a manager, and a Registered Salmon Receiver must make available for inspection R&R documentation they are required to retain under this section upon the request of an authorized officer; and

(ii) Retention of records. The operator of a vessel, a manager, and a Registered Salmon Receiver must retain the R&R documentation they are required to make under this section as follows:

(A) Retain these records on board a vessel, on site at the salmon shoreside processor or stationary floating processor (see § 679.2), or at the Registered Salmon Receiver's place of business, as applicable, until the end of the fishing year during which the records were made and for as long thereafter as fish or fish products recorded in the R&R documentation are retained on site.

(B) Retain these records for three years after the end of the fishing year during which the records were made.

(5) Maintenance of records. The operator of a vessel, a manager, and a Registered Salmon Receiver must maintain all records described in this section in English and in a legible, timely, and accurate manner, based on Alaska local time (A.l.t.); if handwritten, in indelible ink; if computer-generated, as a readable file or a legible printed paper copy;

(6) Custom processing. The manager or Registered Salmon Receiver must record products that result from custom processing for another person in eLandings consistently throughout a fishing year using one of the following two methods:

(i) For combined records, record landings, discards or dispositions, and products of custom-processed salmon routinely in eLandings using processor name, any applicable RSRP number or SFPP number, and ADF&G processor code; or

(ii) For separate records, record landings, discards or dispositions, and products of custom-processed salmon in eLandings identified by the name, SFPP number or RSRP number, and ADF&G processor code of the associated business entity.

(7) Representative. The operator of a vessel, manager, and RSRP holder may identify one contact person to complete the logbook and forms and to respond to inquiries from NMFS.

(b) Interagency Electronic Reporting System (IERS) and eLandings—

(1) Responsibility.

(i) An eLandings User must obtain at his or her own expense hardware, software, and internet connectivity to support internet submissions of commercial fishery landings for which participants report to NMFS: landing data, production data, and discard or disposition data. The User must enter this information via the internet by logging on to the eLandings system at http://elandings.alaska.gov or other NMFS-approved software or by using the desktop client software.

(ii) If the User is unable to submit commercial fishery landings of Cook Inlet EEZ salmon due to hardware, software, or internet failure for a period longer than the required reporting time, the User must contact NMFS Sustainable Fisheries Division at 907-586-7228 for instructions. When the hardware, software, or internet is restored, the User must enter this same information into eLandings or other NMFS-approved software.

(2) eLandings processor registration. (i) Before a User can use the eLandings system to report landings, production, discard, or disposition data, he or she must request authorization to use the system, reserve a unique UserID, and obtain a password by using the internet to complete the eLandings processor registration at https://elandings.alaska.gov/elandings/Register;

(ii) Upon registration acceptance, the User must print, sign, and mail or fax the User Agreement Form to NMFS at the address or fax number shown on the form. Confirmation will be emailed to indicate that the User is registered, authorized to use eLandings, and that the UserID and User's account are enabled; and

(iii) The User's signature on the registration form means that the User agrees to the following terms:

(A) To use eLandings access privileges only for submitting legitimate fishery landing reports;

(B) To safeguard the UserID and password to prevent their use by unauthorized persons; and

(C) To ensure that the User is authorized to submit landing reports for the processor permit number(s) listed.

(3) Information required for eLandings processor registration form. The User must enter the following information (see paragraphs (b)(3)(i) through (ix) of this section) to obtain operation registration and UserID registration:

(i) Select the operation type from the dropdown list;

(ii) Enter a name that will refer to the specific operation. For example, if the plant is in Kodiak and the company is East Pacific Seafoods, the operation name might read “East Pacific Seafoods—Kodiak;”

(iii) Enter ADF&G processor code;

(iv) Enter all the Federal permits associated with the operation;

(A) If a processor for Cook Inlet EEZ salmon, enter the SFPP number; and

(B) If a Registered Salmon Receiver, enter the RSRP number;

(v) Enter the home port code (see Tables 14a, 14b, and 14c to this part) for the operation;

(vi) If a tender operation, the operator must enter the ADF&G vessel identification number of the vessel;

(vii) If a buying station or Registered Salmon Receiver operation is a vehicle, enter vehicle license number and the state of license issuance;

(viii) If a buying station, tender vessel, or custom processor, enter the following information to identify the associated processor where the processing will take place: operation type, ADF&G processor code, and applicable SFPP number, and RSRP number; and

(ix) Each operation requires a primary User. Enter the following information for the primary User for the new operation: create and enter a UserID, initial password, company name, User name (name of the person who will use the UserID), city and state where the operation is located, business telephone number, business fax number, business email address, security question, and security answer.

(4) Information entered automatically for eLandings landing report. eLandings autofills the following fields from processor registration records (see paragraph (b)(2) of this section): UserID, processor company name, business telephone number, email address, port of landing, operation type (for catcher/processors, motherships, or stationary floating processors), ADF&G processor code, and Federal permit number. The User must review the autofilled cells to ensure that they are accurate for the landing that is taking place. eLandings assigns a unique landing report number and an ADF&G electronic fish ticket number upon completion of data entry.

(5) Registered Salmon Receiver landing report. The manager and a Registered Salmon Receiver that receives salmon from a vessel issued an SFFP under § 679.114 and that is required to have an SFPP or RSRP under § 679.114(c) or (d) must use eLandings or other NMFS-approved software to submit a daily landing report during the fishing year to report processor identification information and the following information under paragraphs (b)(5)(i) through (iii) of this section:

(i) Information entered for each salmon delivery to a salmon shoreside processor or Registered Salmon Receiver. The User for a shoreside processor, stationary floating processor, or Registered Salmon Receiver must enter the information specified at (b)(5)(i)(A) through (C) of this section for each salmon delivery provided by the operator of a vessel, the operator or manager of an associated buying station or tender vessel, and from processors for reprocessing or rehandling product into eLandings or other NMFS-approved software:

(A) Delivery information—The User must:

(1) For crew size, enter the number of licensed crew aboard the vessel, including the operator;

(2) Enter the management program name in which harvest occurred (see paragraph (a)(1)(iii) of this section);

(3) Enter the ADF&G salmon statistical area of harvest;

(4) For date of landing, enter date (mm/dd/yyyy) that the delivery was completed;

(5) Indicate (YES or NO) whether delivery is from a buying station or tender vessel;

(6) If the delivery is received from a buying station, indicate the name of the buying station;

(7) If the delivery is received from a tender vessel, enter the ADF&G vessel registration number;

(8) If delivery is received from a vessel, indicate the ADF&G vessel registration number of the vessel; and

(9) Mark whether the vessel logsheet has been received.

(B) Catch information—The User must record the number and landed scale weight in pounds of salmon, including any applicable weight modifier such as delivery condition code, and disposition code of fish by species.

(C) Discard or disposition information—

(i) The User must record discard or disposition of fish: that occurred on and was reported by a vessel; that occurred on and was reported by a salmon shoreside processor or Registered Salmon Receiver; and that occurred prior to, during, and/or after production at the salmon shoreside processor.

(ii) The User for a salmon shoreside processor or Registered Salmon Receiver must submit a landing report containing the information described in paragraph (b)(5)(i) of this section for each salmon delivery from a specific vessel by 1,200 hours, A.l.t., of the day following completion of the delivery. If the landed scale weight required in paragraph (b)(5)(i)(B) of this section is not available by this deadline, the User must transmit an estimated weight and count for each species by 1,200 hours, A.l.t., of the day following completion of the delivery, and must submit a revised landing report with the landed scale weight for each species by 1,200 hours, A.l.t., of the third day following completion of the delivery.

(iii) By using eLandings, the User for a salmon shoreside processor or a Registered Salmon Receiver and the operator of the vessel providing information to the User for the salmon shoreside processor or Registered Salmon Receiver accept the responsibility of and acknowledge compliance with § 679.117(b)(5).

(c) Logbooks—

(1) Requirements.

(i) All Cook Inlet EEZ Area logbook pages must be sequentially numbered.

(ii) Except as described in paragraph (c)(1)(iii) or (iv) of this section, no person may alter or change any entry or record in a logbook;

(iii) An inaccurate or incorrect entry or record in printed data must be corrected by lining out the original and inserting the correction, provided that the original entry or record remains legible. All corrections must be made in ink; and

(iv) If after an electronic logsheet is signed, an error is found in the data, the operator must make any necessary changes to the data, sign the new logsheet, and export the revised file to NMFS. The operator must retain both the original and revised logsheet reports.

(2) Logsheet distribution and submittal. The operator of a vessel must distribute and submit accurate copies of logsheets to the salmon shoreside processor or Registered Salmon Receiver and to NOAA Fisheries Office of Law Enforcement Alaska Region according to the logsheet instructions.

(3) Salmon drift gillnet vessel daily fishing log. The operator of a vessel that is required to have an SFFP under § 679.114(b), and that is using drift gillnet gear to harvest salmon in the Cook Inlet EEZ Area, must maintain a salmon drift gillnet vessel daily fishing log.

(4) Reporting time limits. The operator of a vessel using drift gillnet gear must record in the daily fishing log the information from the following table for each set within the specified time limit:

Reporting Time Limits, Catcher Vessel Drift Gillnet Gear
Required information | Time limit for recording
(i) SFFP number, set number, date and time gear set, date and time gear hauled, beginning and end positions of set, length of net deployed, total number of salmon, marine mammal interaction code, and estimated hail weight of groundfish for each set | Within 2 hours after completion of gear retrieval.
(ii) Discard and disposition information | Prior to landing.
(iii) Submit an accurate copy of the groundfish discards reported on the daily fishing log to shoreside processor or Registered Salmon Receiver receiving catch | At the time of catch delivery.
(iv) All other required information | At the time of catch delivery.
(v) Operator sign the completed logsheets | At the time of catch delivery.

§ 679.116 [Reserved]

§ 679.117 Salmon Fisheries Prohibitions.

In addition to the general prohibitions specified in § 600.725 of this chapter and § 679.7, it is unlawful for any person to do any of the following:

(a) The East Area and the West Area.

(1) Engage in commercial fishing for salmon using any gear except troll gear, defined at § 679.2, in the East Area of the Salmon Management Area, defined at § 679.2 and Figure 23 to this part.

(2) Engage in commercial fishing for salmon in the West Area of the Salmon Management Area, defined at § 679.2 and Figure 23 to this part.

(b) Cook Inlet EEZ Area.

(1) Commercial fishery participants.

(i) Engage in commercial fishing for salmon in the Cook Inlet EEZ Area with a vessel of the United States that does not have on board a legible copy of a valid SFFP issued to the vessel under § 679.114;

(ii) Engage in commercial fishing for salmon using any gear except drift gillnet gear, described at § 679.118, in the Cook Inlet EEZ Area of the Salmon Management Area, defined at § 679.2 and Figure 22 to this part;

(iii) Have on board, retrieve, or deploy any gear, except a drift gillnet legally configured for the Cook Inlet EEZ Area commercial salmon fishery while commercial fishing for salmon in the Cook Inlet EEZ Area;

(iv) Deploy more than one drift gillnet while commercial fishing for salmon in the Cook Inlet EEZ Area;

(v) Set drift gillnet gear within, or allow any portion of drift gillnet gear to enter, Alaska State waters on the same calendar day that drift gillnet gear is also deployed in the Cook Inlet EEZ Area while commercial fishing for salmon in the Cook Inlet EEZ Area;

(vi) Deploy drift gillnet gear in excess of the allowable configuration for total length and mesh size specified at § 679.118(f) while commercial fishing for salmon in the Cook Inlet EEZ Area;

(vii) Use a vessel named, or required to be named, on an SFFP to fish for salmon in the Cook Inlet EEZ Area if that vessel fishes for salmon in Alaska State waters on the same calendar day;

(viii) Possess salmon, harvested in Alaska State waters, on board a vessel commercial fishing for salmon in the Cook Inlet EEZ Area;

(ix) Have salmon on board a vessel at the time a fishing trip commences in the Cook Inlet EEZ Area;

(x) Conduct recreational fishing for salmon, or have recreational or subsistence salmon on board, while commercial fishing for salmon in the Cook Inlet EEZ Area;

(xi) Use or employ aircraft (manned or unmanned) to locate salmon or to direct commercial fishing while commercial fishing for salmon in the Cook Inlet EEZ Area one hour before, during, and one hour after a commercial salmon fishing period;

(xii) Land salmon harvested in Alaska State waters concurrently with salmon harvested commercially in the Cook Inlet EEZ Area;

(xiii) Land or transfer salmon harvested while commercial fishing for salmon in the Cook Inlet EEZ Area, within the EEZ off Alaska;

(xiv) Operate a vessel named, or required to be named, on an SFFP to commercially fish for salmon in the Cook Inlet EEZ Area without a functioning VMS as described in § 679.28(f).

(xv) Discard any salmon harvested while commercial fishing for salmon in the Cook Inlet EEZ Area.

(2) Recreational fishery participants.

(i) Engage in recreational fishing for salmon using any gear except for handline, rod and reel, or hook and line gear, defined at § 600.10, in the Cook Inlet EEZ Area of the Salmon Management Area, defined at § 679.2 and Figure 22 to this part;

(ii) Use more than a single line, with more than two hooks attached, per angler;

(iii) No person shall possess on board a vessel, including charter vessels and pleasure craft used for fishing, salmon that have been filleted, mutilated, or otherwise disfigured in any manner, except that each salmon may be cut into no more than 2 pieces with a patch of skin on each piece, naturally attached. One piece from one salmon on board may be consumed.

(iv) Exceed the daily bag limits and possession limits established under § 679.119.

(3) Processors and Registered Salmon Receivers.

(i) Receive, purchase or arrange for purchase, discard, or process salmon harvested in the Cook Inlet EEZ Area without having on site a legible copy of a valid SFPP or valid RSRP issued under § 679.114;

(ii) Process or receive salmon harvested in the Cook Inlet EEZ Area without submitting a timely and complete landing report as required under § 679.115;

(iii) Process salmon harvested in the Cook Inlet EEZ Area in the EEZ off Alaska; and

(iv) Receive or transport salmon caught in the Cook Inlet EEZ Area without an SFPP or RSRP issued under § 679.114.

(4) Recordkeeping and reporting.

(i) Fail to comply with or fail to ensure compliance with requirements in §§ 679.114 or 679.115.

(ii) Alter or forge any permit or document issued under §§ 679.114 or 679.115;

(iii) Fail to submit or submit inaccurate information on any report, application, or statement required under this part; and

(iv) Intentionally submit false information on any report, application, or statement required under this part.

(5) Fail to comply with any other requirement or restriction specified in this part or violate any provision under this part.

§ 679.118 Management Measures.

This section applies to vessels engaged in commercial fishing and recreational fishing for salmon in the Cook Inlet EEZ Area.

(a) Harvest limits—(1) TAC. NMFS, after consultation with the Council, will specify the annual TAC amounts for commercial fishing for each salmon stock or species after accounting for projected recreational fishing removals.

(2) Annual TAC determination. The annual determinations of TAC for each salmon species or stock may be based on a review of the following:

(i) Resource assessment documents prepared regularly for the Council that provide information on historical catch trends; updated estimates of the MSY of the salmon stocks or stock complexes; assessments of the stock condition of each salmon stock or stock complex; SSC recommendations on reference points established for salmon stocks; management uncertainty; assessments of the multispecies and ecosystem impacts of harvesting the salmon stocks at current levels, given the assessed condition of stocks, including consideration of rebuilding depressed stocks; and alternative harvesting strategies and related effects on the salmon species;

(ii) Social and economic considerations that are consistent with Salmon FMP goals for the Cook Inlet EEZ Area, including the need to promote efficiency in the utilization of fishery resources, including minimizing costs; the desire to conserve, protect, and rebuild depleted salmon stocks; the importance of a salmon fishery to harvesters, processors, local communities, and other salmon users in Cook Inlet; and the need to promote utilization of certain species.

(b) Annual specifications—

(1) Proposed specifications.

(i) As soon as practicable after consultation with the Council, NMFS will publish proposed specifications for the salmon fishery in the Cook Inlet EEZ Area; and

(ii) NMFS will accept public comment on the proposed specifications established by this section for a period specified in the notice of proposed specifications published in the Federal Register.

(2) Final specifications. NMFS will consider comments received on the proposed specifications and will publish a notice of final specifications in the Federal Register unless NMFS determines that the final specifications would not be a logical outgrowth of the notice of proposed specifications. If the final specifications would not be a logical outgrowth of the notice of proposed specifications, NMFS will either:

(i) Publish a revised notice of proposed specifications in the Federal Register for public comment, and after considering comments received on the revised proposed specifications, publish a notice of final specifications in the Federal Register; or

(ii) Publish a notice of final specifications in the Federal Register without an additional opportunity for public comment based on a finding that good cause pursuant to the Administrative Procedure Act justifies waiver of the requirement for a revised notice of proposed specifications and opportunity for public comment thereon.

(c) Management Authority—

(1) Fishery closures. (i) For commercial fishing, if NMFS determines that any salmon TAC for commercial fishing as specified under paragraph (b) of this section has been or may be reached for any salmon species or stock, NMFS will publish notification in the Federal Register prohibiting commercial fishing for salmon in the Cook Inlet EEZ Area.

(ii) For recreational fishing, if NMFS determines that any salmon ABC as specified under paragraph (b) of this section has been or may be reached, NMFS will publish notification in the Federal Register prohibiting retention for that salmon species when recreational fishing in the Cook Inlet EEZ Area.

(d) Commercial Fishery maximum retainable amounts (MRA)—

(1) Proportion of basis species. The MRA of an incidental catch species is calculated as a proportion of the basis species retained on board the vessel using the retainable percentages in Table 10 to this part for the GOA species categories.

(2) Calculation. (i) To calculate the MRA for a specific incidental catch species, an individual retainable amount must be calculated with respect to each basis species that is retained on board that vessel.

(ii) To obtain these individual retainable amounts, multiply the appropriate retainable percentage for the incidental catch species/basis species combination, set forth in Table 10 to this part for the GOA species categories, by the amount of the relevant basis species on board, in round-weight equivalents.

(iii) The MRA for that specific incidental catch species is the sum of the individual retainable amounts for each basis species.

(e) Seasons—

(1) Fishing Season. Directed fishing for salmon using drift gillnet gear in the Cook Inlet EEZ Area may be conducted from 0700 hours, A.l.t., from the third Monday in June or June 19, whichever is later, through 1900 hours, A.l.t., August 15.

(2) Fishing Periods. Notwithstanding other provisions of this part, fishing for salmon with drift gillnet gear in the Cook Inlet EEZ Area is authorized during the fishing season only from 0700 hours, A.l.t., until 1900 hours, A.l.t., Mondays and from 0700 hours, A.l.t., until 1900 hours, A.l.t., Thursdays. Fishing for salmon using drift gillnet gear at times other than during the specified fishing periods is not authorized.

(f) Legal gear—

(1) Size. Drift gillnet gear must be no longer than 200 fathoms (1.1 kilometer) in length, 45 meshes deep, and have a mesh size of no greater than 6 inches (15.24 cm).

(2) Marking. Drift gillnet gear must be marked at both ends with buoys that legibly display the vessel's SFFP number.

(3) Floating. The float line and floats of gillnets must be floating on the surface of the water while the net is fishing, unless natural conditions cause the net to temporarily sink. Staking or otherwise fixing a drift gillnet to the seafloor is not authorized.

(4) Measurement. For purposes of paragraph (f)(1), nets must be measured, either wet or dry, by determining the maximum or minimum distance between the first and last hanging of the net when the net is fully extended with traction applied at one end only.

§ 679.119 Recreational Salmon Fisheries.

(a) Daily bag limits and possession limits—For each person recreational fishing for salmon in the Cook Inlet EEZ Area, the following daily bag and possession limits apply:

(1) Chinook salmon. From April 1 to August 31, the daily bag limit is one Chinook salmon of any size and the possession limit is one daily bag limit (one Chinook salmon). From September 1 to March 31, the daily bag limit is two Chinook salmon of any size and the possession limit is one daily bag limit (two Chinook salmon).

(2) Coho salmon, sockeye salmon, pink salmon, and chum salmon. For coho salmon, sockeye salmon, pink salmon, and chum salmon, the daily bag limit is a total of six fish combined, of any size, of which a maximum of three may be coho salmon. The possession limit for coho salmon, sockeye salmon, pink salmon, and chum salmon is one daily bag limit (six fish total).

(3) Combination of bag/possession limits. A person who fishes for or possesses salmon in or from the Cook Inlet EEZ Area, specified in paragraph (a) of this section, may not combine such bag or possession limits with any bag or possession limit applicable to Alaska State waters.

(4) Responsibility for bag/possession limits. The operator of a vessel that fishes for or possesses salmon in or from the Cook Inlet EEZ Area is responsible for the cumulative bag or possession limit specified in paragraph (a) of this section that apply to that vessel, based on the number of persons aboard.

(5) Transfer at sea. A person who fishes for or possesses salmon in or from the Cook Inlet EEZ Area under a bag or possession limit specified in paragraph (a) of this section may not transfer a salmon at sea from a fishing vessel to any other vessel, and no person may receive at sea such salmon.

(b) Careful release—Any salmon brought aboard a vessel and not immediately returned to the sea with a minimum of injury will be included in the daily bag limit of the person catching the salmon.

11. Add figure 22 to part 679 to read as follows:

Figure 22 to Part 679—Cook Inlet EEZ Area (see § 679.2).

12. Amend table 15 to part 679 by:

a. Adding in alphabetical order the entry “Gillnet, drift” under the heading “NMFS AND ADF&G GEAR CODES”; and

b. Removing the entry “Gillnet, drift” under the heading “ADF&G GEAR CODES”.

The addition reads as follows:

Table 15 to Part 679—Gear Codes, Descriptions, and Use
NMFS and ADF&G Gear Codes
* * * * * * *
Gillnet, drift |  | 03 | X | X
* * * * * * *

[FR Doc. 2023-22747 Filed 10-18-23; 8:45 am]

BILLING CODE 3510-22-P